NUCLEAR REGULATORY COMMISSION

Privacy Act of 1974; Republication of Systems of Records Notices

AGENCY: Nuclear Regulatory Commission.

ACTION: Republication of systems of records notices.

SUMMARY: The Nuclear Regulatory Commission (NRC) has conducted a comprehensive review of all its Privacy Act Systems of Records. The NRC is revising and republishing all its systems of records (systems) notices as a result of this review. The systems revisions are minor corrective and administrative changes that do not meet the threshold criteria established by the Office of Management and Budget (OMB) for either a new or altered system of records. These changes are in compliance with OMB Circular No. A-130, Appendix I.

EFFECTIVE DATE: All revisions included in this republication are complete and accurate as of October 15, 2002.

FOR FURTHER INFORMATION CONTACT: Sandra S. Northern, Privacy Program Officer, FOIA/Privacy Act Team, Web, Publishing and Distribution Services Division, Office of the Chief Information Officer, U.S. Nuclear Regulatory Commission, Washington, DC 20555-0001, telephone: 301-415-6879; email: ssn@nrc.gov.

SUPPLEMENTARY INFORMATION:

Republication of NRC's Revised Systems of Records Notices

With the exception of 1 new system of records, these notices were last published in the Federal Register on September 18, 2000 (65 FR 56414-56449). The new system of records is NRC-12, Child Care Tuition Assistance Program Records, published in the Federal Register on December 19, 2001 (66 FR 65523), and became effective on January 28, 2002.

Two systems of records have been revoked, NRC-15, NRC Employees on Standards Developing Bodies Files, and NRC-34, Advisory Committee on Reactor Safeguards (ACRS) and Advisory Committee on Nuclear Waste (ACNW) Correspondence Index, Text/Imaging Management System and Associated Records.

Privacy Act Systems Nuclear Regulatory Commission

NRC Systems of Records

1. Parking Permit Records—NRC

2. Biographical Information Records—NRC.

3. Enforcement Actions Against Individuals—NRC.

4. Conflict of Interest Files—NRC.

5. Contracts Records Files—NRC.

6. Discrimination Cases—NRC.

7. Telephone Call Detail Records—NRC.

8. Employee Appeals, Grievances, and Complaints Records—NRC.

9. Office of Small Business and Civil Rights Discrimination Complaint Files—NRC.

10. Freedom of Information Act (FOIA) and Privacy Act (PA) Requests Records—NRC.

11. General Personnel Records (Official Personnel Folder and Related Records)—NRC.

12. Child Care Tuition Assistance Program Records—NRC.

13. Incentive Awards Files—NRC.

14. Employee Assistance Program Files—NRC.

15. [Revoked.]

16. Facility Operator Licensees Record Files (10 CFR part 55)—NRC.

17. Occupational Injuries and Illness Records—NRC.

18. Office of the Inspector General (OIG) Investigative Records—NRC.

19. Official Personnel Training Records Files—NRC.

20. Official Travel Records—NRC.

21. Payroll Accounting Records—NRC.

22. Personnel Performance Appraisals—NRC.

23. Office of Investigations Indices, Files, and Associated Records—NRC.

24. Property and Supply System (PASS)—NRC.

25. Oral History Program—NRC.

26. Full Share Program Records—NRC.

27. Radiation Exposure Information and Reports System (REIRS) Files—NRC.

28. Recruiting, Examining, and Placement Records—NRC.

29. [Revoked.]

30. Reactor Program System (RPS)/Regulatory Information Tracking System (RITS)—NRC.

31. Correspondence and Records, Office of the Secretary—NRC.

32. Office of the Chief Financial Officer Financial Transactions and Dept Collection Management Records—NRC.

33. Special Inquiry File—NRC.

34. [Revoked.]

35. Drug Testing Program Records—NRC.

36. Employee Locator Records Files—NRC.

37. Information Security Files and Associated Records—NRC.

38. Mailing Lists—NRC.

39. Personnel Security Files and Associated Records—NRC.

40. Facility Security Access Control Records—NRC.

41. Tort Claims and Personal Property Claims Records—NRC.

42. Skills Assessment and Employee Profile Records—NRC.

43. Employee Health Center Records—NRC.

44. Employee Fitness Center Records—NRC.

These systems of records are those systems maintained by the NRC that contain personal information about individuals, and from which personal information can be retrieved by reference to an individual identifier.

The notice for each system of records states the name and location of the record system, the authority for and manner of its operation, the categories of individuals that it covers, the types of records that it contains, the sources of information in those records, and the proposed “routine uses” of each system of records. Each notice also includes the business address of the NRC official who will inform interested persons of the procedures whereby they may gain access to and correct records pertaining to themselves.

One of the purposes of the Privacy Act (Act), as stated in section 2(b)(4) of the Act, is to provide certain safeguards for an individual against an invasion of personal privacy by requiring Federal agencies to * * * “disseminate any record of identifiable personal information in a manner that assures that such action is for a necessary and lawful purpose, that information is current and accurate for its intended use, and that adequate safeguards are provided to prevent misuse of such information.” The NRC intends to follow these principles in transferring information to another agency or individual as a “routine use,” including assurance that the information is relevant for the purposes for which it is transferred.

Prefatory Statement of General Routine Uses

The following routine uses apply to each system of records notice set forth below which specifically references this Prefatory Statement of General Routine Uses.

1. If a system of records maintained by the NRC to carry out its functions indicates a violation of law, whether civil, criminal, or regulatory in nature, and whether arising by general statute or particular program statute, or by regulation, rules, or order issued pursuant thereto, the relevant records in the system of records may be referred, as a routine use, to the appropriate agency, whether Federal, State, local, or foreign, charged with the responsibility of investigating or prosecuting such violation or charged with enforcing or implementing the statute, or rule, regulation, or order issued pursuant thereto.

2. A record from this system of records may be disclosed, as a routine use, to a Federal, State, local, or foreign agency, if necessary, to obtain information relevant to an NRC decision concerning the hiring or retention of an employee, the issuance of a security clearance, the letting of a contract, or the issuance of a license, grant, or other benefit.

3. A record from this system of records may be disclosed, as a routine use, to a Federal, State, local, or foreign agency in response to its request, in connection with the hiring or retention of an employee, the issuance of a security clearance, the reporting of an investigation of an employee, the letting of a contract, or the issuance of a license, grant, or other benefit by the requesting agency, to the extent that the information is relevant and necessary to the requesting agency's decision on the matter.

4. A record from this system of records may be disclosed, as a routine use, in the course of discovery and in presenting evidence to a court, magistrate, administrative tribunal, or grand jury, including disclosures to opposing counsel in the course of settlement negotiations.

5. Disclosure may be made, as a routine use, to a Congressional office from the record of an individual in response to an inquiry from the Congressional office made at the request of that individual.

6. A record from this system of records may be disclosed, as a routine use, to NRC-paid experts, consultants, and others under contract with the NRC, on a “need-to-know” basis for a purpose within the scope of the pertinent NRC contract. This access will be granted to an NRC contractor by a system manager only after satisfactory justification has been provided to the system manager.

NRC-1

SYSTEM NAME:

Parking Permit Records—NRC.

SYSTEM LOCATION:

Office of Administration, Administrative Services Center, NRC, One White Flint North, 11555 Rockville Pike, Rockville, Maryland.

CATEGORIES OF INDIVIDUALS COVERED BY THE SYSTEM:

Employees and contractors who apply for parking permits for NRC-controlled parking spaces.

CATEGORIES OF RECORDS IN THE SYSTEM:

These records consist of the applications and the revenue collected for the headquarters buildings garage. The applications include, but are not limited to, the applicant's name, address, telephone number, length of service, and vehicle, rideshare and handicap information.

AUTHORITY FOR MAINTENANCE OF THE SYSTEM:

31 U.S.C. 3511 (1982), 41 CFR 101-20.104 (2001), Parking Facilities; Management Directive 13.4, “Transportation Management,” Part I, “White Flint North Parking Procedures”.

ROUTINE USES OF RECORDS MAINTAINED IN THE SYSTEM, INCLUDING CATEGORIES OF USERS AND THE PURPOSES OF SUCH USES:

Information in these records may be used:

a. To record amount paid and revenue collected for parking;

b. To contact permit holder;

c. To determine priority for issue of permits;

d. To provide statistical reports to city, county, State, and Federal government agencies; and

e. For the routine uses specified in paragraph numbers 1, 4, 5, and 6 in the Prefatory Statement of General Routine Uses.

POLICIES AND PRACTICES FOR STORING, RETRIEVING, ACCESSING, RETAINING, AND DISPOSING OF RECORDS IN THE SYSTEM:

STORAGE:

Maintained on paper in file folders and on computer media.

RETRIEVABILITY:

Accessed by name, tag number and permit number.

SAFEGUARDS:

Paper records and backup disks are maintained in locked file cabinets under visual control of the Administrative Services Center. Computer files are maintained on a hard drive, access to which is password protected. Access to and use of these records are limited to those persons whose official duties require access.

RETENTION AND DISPOSAL:

Records are destroyed when 3 years old in accordance with GRS 3.3a(1)(b) by shredding or in the regular trash disposal system. The automated records are destroyed when no longer needed.

SYSTEM MANAGERS(S) AND ADDRESS:

Chief, Administrative Services Center, Division of Administrative Services, Office of Administration, U.S. Nuclear Regulatory Commission, Washington, DC 20555-0001.

NOTIFICATION PROCEDURE:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

RECORD ACCESS PROCEDURE:

Same as “Notification procedure.”

CONTESTING RECORD PROCEDURE:

Same as “Notification procedure.”

RECORD SOURCE CATEGORIES:

Applications submitted by NRC employees and contractors.

EXEMPTIONS CLAIMED FOR THE SYSTEM:

None.

NRC-2

SYSTEM NAME:

Biographical Information Records—NRC.

SYSTEM LOCATION:

Office of Public Affairs, NRC, One White Flint North, 11555 Rockville Pike, Rockville, Maryland.

CATEGORIES OF INDIVIDUALS COVERED BY THE SYSTEM:

Current and former Commissioners and senior NRC staff members.

CATEGORIES OF RECORDS IN THE SYSTEM:

These records contain information relating to education and training, employment history, and other general biographical data about the Commissioners and senior NRC staff members, including photographs of Commissioners.

AUTHORITY FOR MAINTENANCE OF THE SYSTEM:

42 U.S.C. 5841, 5843(a), 5844(a), 5845(a), and 5849 (1994-1996).

ROUTINE USES OF RECORDS MAINTAINED IN THE SYSTEM, INCLUDING CATEGORIES OF USERS AND THE PURPOSES OF SUCH USES:

Information in these records may be used:

a. To provide information to the press;

b. To provide information to other persons and agencies requesting this information; and

c. For the routine uses specified in paragraph numbers 5 and 6 of the Prefatory Statement of General Routine Uses.

POLICIES AND PRACTICES FOR STORING, RETRIEVING, ACCESSING, RETAINING, AND DISPOSING OF RECORDS IN THE SYSTEM:

STORAGE:

Paper records are maintained in file folders.

RETRIEVABILITY:

Records are accessed by name.

SAFEGUARDS:

Maintained in unlocked file cabinets. Access to and use of these records are limited to those persons whose official duties require such access.

RETENTION AND DISPOSAL:

Retained until updated or association with NRC is discontinued, then destroyed through regular trash disposal system.

SYSTEM MANAGER(S) AND ADDRESS:

Deputy Director, Office of Public Affairs, U.S. Nuclear Regulatory Commission, Washington, DC 20555-0001.

NOTIFICATION PROCEDURE:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

RECORD ACCESS PROCEDURE:

Same as “Notification procedure.”

CONTESTING RECORD PROCEDURE:

Same as “Notification procedure.”

RECORD SOURCE CATEGORIES:

Information in this system of records is provided by each individual and approved for use by the individual involved.

Exemptions Claimed for the System:

None.

NRC-3

System Name:

Enforcement Actions Against Individuals—NRC.

System Location:

Primary system—Office of Enforcement, NRC, One White Flint North, 11555 Rockville Pike, Rockville, Maryland.

Duplicate system—Duplicate systems may exist, in whole or in part, at the NRC Regional Offices at the locations listed in Addendum I, Part 2, and in the Office of the General Counsel, NRC, One White Flint North, 11555 Rockville Pike, Rockville, Maryland.

Categories of Individuals Covered by the System:

Individuals involved in NRC-licensed activities who have been subject to NRC enforcement actions or who have been the subject of correspondence indicating that they are being, or have been, considered for enforcement action.

Categories of Records in the System:

The system includes, but is not limited to, individual enforcement actions, including Orders, Notices of Violations with and without Civil Penalties, Orders Imposing Civil Penalties, Letters of Reprimand, Demands for Information, and letters to individuals who are being or have been considered for enforcement action. Also included are responses to these actions and letters. In addition, the files may contain other relevant documents directly related to those actions and letters that have been issued. Files are arranged numerically by Individual Action (IA) numbers, which are assigned when individual enforcement actions are considered. In instances where only letters are issued, these letters also receive IA numbers. The system includes a computerized database from which information is retrieved by names of the individuals subject to the action and IA numbers.

Authority for Maintenance of the System:

42 U.S.C. 2114, (1978); 42 U.S.C. 2167, as amended (1992); 42 U.S.C. 2201(i), as amended (1992); and 42 U.S.C. 2282, as amended, (1996); 10 CFR 30.10, 40.10, 50.5, 60.11, 61.9b, 70.10, 72.12, 110.7b (1998).

Routine Uses of Records Maintained in the System, Including Categories of Users and the Purposes of Such Uses:

In addition to the disclosures permitted under subsection (b) of the Privacy Act, the NRC may disclose information contained in this system of records without the consent of the subject individual if the disclosure is compatible with the purpose for which the record was collected under the following routine uses:

a. To respond to general information requests from the Congress;

b. To deter future violations, certain information in this system of records may be routinely disseminated to the public by means such as: Publishing in the Federal Register certain enforcement actions issued to individuals and making the information available in the Public Electronic Reading Room accessible through the NRC Web site, http://www.nrc.gov.

c. When considered appropriate for disciplinary purposes, information in this system of records, such as enforcement actions and hearing proceedings, may be disclosed to a bar association, or other professional organization performing similar functions, including certification of individuals licensed by NRC or Agreement States to perform specified licensing activities;

d. Where appropriate to ensure the public health and safety, information in this system of records, such as enforcement actions and hearing proceedings, may be disclosed to a Federal or State agency with licensing jurisdiction;

e. To the National Archives and Records Administration or to the General Services Administration for records management inspections conducted under 44 U.S.C. 2904 and 2906; and

f. For the routine uses specified in paragraphs 1, 2, 3, 4, and 5 of the Prefatory Statement of General Routine Uses.

Policies and Practices for Storing, Retrieving, Accessing, Retaining, and Disposing of Records in the System:

Storage:

Records are maintained on paper in file folders, on computer printouts, and on computer media.

Retrievability:

Records are accessed by individual action file number or by the name of the individual.

Safeguards:

Paper records are maintained in lockable file cabinets and are under visual control during duty hours. Access to computer records requires use of proper password and user identification codes. Access to and use of these records is limited to those NRC employees whose official duties require access.

Retention and Disposal:

Significant Enforcement Actions Case Files are permanent records and are transferred to NARA with related indexes when 20 years old in accordance with NARA approved schedule N1-431-00-05, Item 3.a(1) and 3.a(4). All other enforcement actions and violations are destroyed 10 years after the actions are cutoff, in accordance with NARA approved schedule N1-431-00-05, Item 3.b(1) and 3.b(4).

System Manager(s) and Address:

Director, Office of Enforcement, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information in the records is primarily obtained from NRC inspectors and investigators and other NRC employees, individuals to whom a record pertains, authorized representatives for these individuals, and NRC licensees, vendors, other individuals regulated by the NRC, and persons making allegations to the NRC.

Exemptions Claimed for the System:

None.

NRC-4

System Name:

Conflict of Interest Files—NRC.

System Location:

Primary system—Office of the General Counsel, NRC, One White Flint North, 11555 Rockville Pike, Rockville, Maryland.

Duplicate system—Duplicate systems exist, in whole or in part, at the locations listed in Addendum I, Parts 1 and 2.

Categories of Individuals Covered by the System:

Persons who are employees, special Government employees, former employees, advisory committee members, and consultants of NRC.

Categories of Records in the System:

These records contain information relating to:

a. General biographical data (i.e., name, birth date, home address, position title, home and business telephone numbers, citizenship, educational history, employment history, professional society memberships, honors, fellowships received, publications, licenses, and special qualifications);

b. Financial status (i.e., nature of financial interests and in whose name held, creditors, character of indebtedness, interest in real property, monthly U.S. Civil Service Annuity, and status as Uniformed Services Retired Officer);

c. Certifications by employees that they and members of their families are in compliance with the Commission's stock ownership regulations;

d. Requests for approval of outside employment by NRC employees and NRC responses thereto;

e. Advice and determinations (i.e., no conflict or apparent conflict of interest, questions requiring resolution, steps taken toward resolution); and

f. Information pertaining to appointment (i.e., proposed period of NRC service, estimated number of days of NRC employment during period of service, proposed pay, clearance status, description of services to be performed and explanation of need for the services, justification for proposed pay, description of expenses to be reimbursed and dollar limitation, and description of Government-owned property to be in possession of appointee).

Authority for Maintenance of the System:

5 CFR parts 2634-2640, 5801 (1994-2002); 18 U.S.C. 201-209 (2002); Executive Order 12731 (October 17, 1990); Ethics in Government Act of 1978; as amended.

Routine Uses of Records Maintained in the System, Including Categories of Users and the Purposes of Such Uses:

Information in these records may be used:

a. To provide the Department of Justice, Office of Personnel Management, Office of Government Ethics, Office of Special Counsel, and/or Merit Systems Protection Board with information concerning an employee in instances where this office has reason to believe a Federal law may have been violated or where this office desires the advice of the Department, Office, or Board concerning potential violations of Federal law; and

b. For any of the routine uses specified in the Prefatory Statement of General Routine Uses.

Policies and Practices for Storing, Retrieving, Accessing, Retaining, and Disposing of Records in the System:

Storage:

Paper records are maintained in file folders. Records are also maintained on computer media.

Retrievability:

Records are accessed by name.

Safeguards:

Records are maintained in locked file cabinets and in computer files that can only be accessed by the appropriate personnel.

Retention and Disposal:

Records are destroyed when 6 years old in accordance with GRS 1-24.a and GRS 1-24.b; except that documents needed in an ongoing investigation will be retained until no longer needed in the investigation. Computer files are deleted after the expiration of the retention period authorized for the disposable hard copy file or when no longer needed, whichever is later.

System Manager(s) and Address:

Assistant General Counsel for Legal Counsel, Legislation, and Special Projects, Office of the General Counsel, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information in this system of records either comes from the individual to whom it applies, or is derived from information he or she supplied, or comes from the office to which the individual is to be assigned, other NRC offices, or other persons such as attorneys.

EXEMPTIONS CLAIMED FOR THE SYSTEM:

None.

NRC-5

SYSTEM NAME:

Contracts Records Files—NRC.

SYSTEM LOCATION:

Primary system—Division of Contracts, NRC, Two White Flint North, 11545 Rockville Pike, Rockville, Maryland.

Duplicate system—Duplicate systems exist, in whole or in part, at the locations listed in Addendum I, Parts 1 and 2.

CATEGORIES OF INDIVIDUALS COVERED BY THE SYSTEM:

NRC employees substantially involved with contracting, such as Project Officers and Procurement Officials. Persons who are employed as NRC contractors.

CATEGORIES OF RECORDS IN THE SYSTEM:

These records contain personal information (such as technical qualifications, education, rates of pay, employment history) of contractors and their employees, and other contracting records. They also contain evaluations, recommendations, and reports of NRC procurement officials, assessment of contractor performance, invoice payment records, and related information.

AUTHORITY FOR MAINTENANCE OF THE SYSTEM:

44 U.S.C. 3301 (1976); 31 U.S.C. 3511 (1982); 48 CFR subpart 4.8 (2001); NRC Management Directive 3.53, Records Management.

ROUTINE USES OF RECORDS MAINTAINED IN THE SYSTEM, INCLUDING CATEGORIES OF USERS AND THE PURPOSES OF SUCH USES:

Information in these records may be used:

a. To provide information to the Federal Procurement Data Center, Department of Health and Human Services, Defense Contract Audit Agency, General Accounting Office, and other Federal agencies for audits and reviews; and

b. For any of the routine uses specified in the Prefatory Statement of General Routine Uses.

POLICIES AND PRACTICES FOR STORING, RETRIEVING, ACCESSING, RETAINING, AND DISPOSING OF RECORDS IN THE SYSTEM:

STORAGE:

Records are maintained in file folders and computer media.

RETRIEVABILITY:

Paper records are accessed by contract number, taxpayer identification number (TIN), or purchase order number; and are cross-referenced to the automated system that contains the name of the contractor, vendor, project officer, procurement official, or contract manager.

SAFEGUARDS:

File folders are maintained in unlocked conserver files in a key code locked room. Access to and use of these records are limited to those persons whose official duties require such access. Electronic files are password protected.

RETENTION AND DISPOSAL:

Records for transactions of more than $100,000 are destroyed 6 years and 3 months after final payment, in accordance with GRS 3-3.a(1)(a). Transactions of $100,000 or less are destroyed 3 years after final payment in accordance with GRS 3-3.a(1)(b). Records are destroyed through regular trash disposal system, except for confidential business (proprietary) information which is destroyed by shredding. Electronic records in the Contracts System are retained until no longer needed.

SYSTEM MANAGER(S) AND ADDRESS:

Director, Division of Contracts, Office of Administration, U.S. Nuclear Regulatory Commission, Washington, DC 20555-0001.

NOTIFICATION PROCEDURE:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

RECORD ACCESS PROCEDURE:

Same as “Notification procedure.” Some information was received in confidence and will not be disclosed to the extent that disclosure would reveal confidential business (proprietary) information.

CONTESTING RECORD PROCEDURE:

Same as “Notification procedure.”

RECORD SOURCE CATEGORIES:

Information in this system of records comes from the contractor or potential contractor or NRC employee.

EXEMPTIONS CLAIMED FOR THE SYSTEM:

Pursuant to 5 U.S.C. 552a(k)(1) and (k)(5), the Commission has exempted portions of this system of records from 5 U.S.C. 552a(c)(3), (d), (e)(1), (e)(4)(G), (H), and (I), and (f). The exemption rule is contained in 10 CFR 9.95 of the NRC regulations.

NRC-6

SYSTEM NAME:

Discrimination Cases—NRC.

SYSTEM LOCATION:

Primary system—Office of Enforcement, NRC, One White Flint North, 11555 Rockville Pike, Rockville, Maryland.

Duplicate system—Duplicate systems may exist, in whole or in part, in the Office of the General Counsel, NRC, One White Flint North, 11555 Rockville Pike, Rockville, Maryland, and in enforcement coordinators' offices at NRC Regional Offices at the addresses listed on Addendum I, Part 2. The duplicate systems in the Regional Offices would ordinarily be limited to the cases filed in each Region.

CATORIES OF INDIVIDUALS COVERED BY THE SYSTEM:

Individuals who have filed complaints with the Department of Labor (DOL) concerning alleged acts of discrimination in violation of section 211 of the Energy Reorganization Act.

CATEGORIES OF RECORDS IN THE SYSTEM:

The system consists of files arranged alphabetically by name to track complaints filed by individuals with DOL under section 211 of the Energy Reorganization Act. These files include documents related to, and provided by, the DOL including copies of complaints, correspondence between the parties, and decisions by the Regional Administrators of DOL's Occupational, Safety, and Health Administration, Administrative Law Judges, and the Administrative Review Board.

AUTHORITY FOR MAINTENANCE OF THE SYSTEM:

42 U.S.C. 2201, as amended, (1992); 42 U.S.C. 2282, as amended (2002); 42 U.S.C. 5851, as amended (1992); 10 CFR 30.7, 40.7, 50.7, 60.9, 61.9, 70.7 (1996), and 10 CFR 72.10 (1999).

ROUTINE USES OF RECORDS MAINTAINED IN THE SYSTEM, INCLUDING CATEGORIES OF USERS AND THE PURPOSES OF SUCH USES:

Information in these records may be used for any of the routine uses specified in the Prefatory Statement of General Routine Uses.

POLICIES AND PRACTICES FOR STORING, RETRIEVING, ACCESSING, RETAINING, AND DISPOSING OF RECORDS IN THE SYSTEM:

STORAGE:

Records are maintained on paper in file folders, on computer printouts, and on computer media.

RETRIEVABILITY:

Records are accessed by the name of the individual who has filed a complaint with DOL.

SAFEGUARDS:

Paper records are maintained in lockable file cabinets. Access to computer records requires use of proper password and user identification codes. Access to and use of these records is limited to those NRC employees whose official duties require access.

RETENTION AND DISPOSAL:

Nonrecord materials are destroyed when no longer needed by NRC.

SYSTEM MANAGER(S) AND ADDRESS:

Director, Office of Enforcement, U.S. Nuclear Regulatory Commission, Washington, DC 20555-0001.

NOTIFICATION PROCEDURE:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

RECORD ACCESS PROCEDURE:

Same as “Notification procedure.” Information received from the Department of Labor is treated by DOL as public information and subject to disclosure under applicable laws.

CONTESTING RECORD PROCEDURE:

Same as “Notification procedure.”

RECORD SOURCE CATEGORIES:

Individuals to whom a record pertains, attorneys for these individuals, union representatives serving as advisors to these individuals, NRC licensees, NRC staff, and DOL.

EXEMPTIONS CLAIMED FOR THE SYSTEM:

None.

NRC-7

SYSTEM NAME:

Telephone Call Detail Records—NRC.

SYSTEM LOCATION:

Office of the Chief Information Officer, NRC, Two White Flint North, 11545 Rockville Pike, Rockville, MD.

CATEGORIES OF INDIVIDUALS COVERED BY THE SYSTEM:

Individuals utilizing NRC telephones, including current and former NRC employees and contractors who make local or long-distance telephone calls and individuals who received telephone calls placed from NRC telephones.

CATEGORIES OF RECORDS IN THE SYSTEM:

Records relating to use of the agency telephones to place local or long-distance calls, records indicating assignment of telephone numbers to employees, and records relating to the location of telephones.

AUTHORITY FOR MAINTENANCE OF THE SYSTEM:

44 U.S.C. 3101 et seq. (1968); 41 CFR 101-35.1, Use of Government Telephones; 41 CFR 101, Subchapter B, Management and Use of Information and Records; NRC Management Directive 3.53, Records Management.

ROUTINE USES OF RECORDS MAINTAINED IN THE SYSTEM, INCLUDING CATEGORIES OF USERS AND THE PURPOSES OF SUCH USES:

Information ln these records may be used:

a. By individual employees of the agency to determine their individual responsibility for telephone calls; and

b. For the routine uses specified in paragraphs 1, 3, 5, and 6 of the Prefatory Statement of General Routine Uses.

DISCLOSURES TO CONSUMER REPORTING AGENCIES:

Disclosures under 5 U.S.C. 552a(b)(12) may be made from this system to “consumer reporting agencies” as defined in the Fair Credit Reporting Act (15 U.S.C. 1681a(f) (1970)) or the Federal Claims Collection Act of 1966 (31 U.S.C. 3701(a)(3) (1996)).

POLICIES AND PRACTICES FOR STORING, RETRIEVING, ACCESSING, RETAINING, AND DISPOSING OF RECORDS IN THE SYSTEM:

STORAGE:

Maintained in paper files and on computer media.

RETRIEVABILITY:

Accessed by name, office, or telephone number.

SAFEGUARDS:

Maintained in locking file cabinets or locked rooms. Computer files are password protected. Access to and use of these records are limited to those persons whose official duties require such access.

RETENTION AND DISPOSAL:

Records pertaining to employee phone use are destroyed when 3 years old in accordance with GRS 12-4. Records pertaining to location of telephone equipment, equipment requests, and phone service are destroyed when 3 years old in accordance with GRS 12-2.b.

SYSTEM MANAGER(S) AND ADDRESS:

Director, Information Technology Infrastructure Division, Office of the Chief Information Officer, U.S. Nuclear Regulatory Commission, Washington, DC 20555-0001.

NOTIFICATION PROCEDURE:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

RECORD ACCESS PROCEDURE:

Same as “Notification procedure.”

CONTESTING RECORD PROCEDURE:

Same as “Notification procedure.”

RECORD SOURCE CATEGORIES:

Information is obtained from call detail listings, NRC Form 768, “Request for Information Technology Services,” results of administrative inquiries relating to assignment of responsibility for placement of specific telephone calls, and certification of telephone bills.

EXEMPTIONS CLAIMED FOR THE SYSTEM:

None.

NRC-8

SYSTEM NAME:

Employee Appeals, Grievances, and Complaints Records—NRC.

SYSTEM LOCATION:

Primary system—Office of Human Resources, NRC, Two White Flint North, 11545 Rockville Pike, Rockville, Maryland.

Duplicate system—A duplicate system may be maintained, in whole or in part, in the Office of the General Counsel, NRC, One White Flint North, 11555 Rockville Pike, Rockville, Maryland, and at locations listed in Addendum I, Parts 1 and 2.

CATEGORIES OF INDIVIDUALS COVERED BY THE SYSTEM:

Applicants for NRC employment, current and former NRC employees, and annuitants who have filed written complaints brought to the Office of Human Resource's attention or initiated grievances or appeal proceedings as a result of a determination made by the NRC, Office of Personnel Management, and/or Merit Systems Protection Board, or a Board or other entity established to adjudicate such grievances and appeals.

CATEGORIES OF RECORDS IN THE SYSTEM:

Includes all documents related to disciplinary actions, adverse actions, appeals, complaints, grievances, arbitrations, and negative determinations regarding within-grade salary increases. It contains information relating to determinations affecting individuals made by the NRC, Office of Personnel Management, Merit Systems Protection Board, arbitrators or courts of law. The records consist of the initial appeal or complaint, letters or notices to the individual, records of hearings when conducted, materials placed into the record to support the decision or determination, affidavits or statements, testimony of witnesses, investigative reports, instructions to an NRC office or division concerning action to be taken to comply with decisions, and related correspondence, opinions, and recommendations.

AUTHORITY FOR MAINTENANCE OF THE SYSTEM:

5 U.S.C. 3591 (1978), 5 U.S.C. 4303, as amended (1990), 5 U.S.C. 7503 (1978); 42 U.S.C. 2201(d), as amended (1992).

ROUTINE USES OF RECORDS MAINTAINED IN THE SYSTEM, INCLUDING CATEGORIES OF USERS AND THE PURPOSES OF SUCH USES:

Information in these records may be used:

a. To furnish information to the Office of Personnel Management and/or Merit Systems Protection Board under applicable requirements related to grievances and appeals;

b. To provide appropriate data to union representatives and third parties (that may include the Federal Services Impasses Panel and Federal Labor Relations Authority) in connection with grievances, arbitration actions, and appeals; and

c. For any of the routine uses specified in the Prefatory Statement of General Routine Uses.

POLICIES AND PRACTICES FOR STORING, RETRIEVING, ACCESSING, RETAINING, AND DISPOSING OF RECORDS IN THE SYSTEM:

STORAGE:

These records are maintained in file folders, binders, index cards, floppy disks, and a password-protected automated system.

RETRIEVABILITY:

These records are indexed annually by the names of the individuals on whom they are maintained.

SAFEGUARDS:

Maintained in locked file cabinets and in a password-protected automated system available only to Labor Relations personnel. Access to and use of these records are limited to those persons whose official duties require such access.

RETENTION AND DISPOSAL:

Records related to grievances, appeals, and adverse actions are destroyed seven years after the cases are closed in accordance with GRS 1-30.a and GRS 1-30.b, index cards are destroyed or deleted with the related records or sooner, if no longer needed, and computer files are destroyed after the period authorized for the related hard copy files or when no longer needed, whichever is later.

SYSTEM MANAGER(S) AND ADDRESS:

Chief, Organization and Labor Relations, Office of Human Resources, U.S. Nuclear Regulatory Commission, Washington, DC 20555-0001.

NOTIFICATION PROCEDURE:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

RECORD ACCESS PROCEDURE:

Same as “Notification procedure.” Some information was received in confidence and will not be disclosed to the extent that disclosure would reveal a confidential source.

CONTESTING RECORD PROCEDURE:

Same as “Notification procedure.”

RECORD SOURCE CATEGORIES:

Individuals to whom the record pertains, NRC, Office of Personnel Management and/or Merit Systems Protection Board officials; affidavits or statements from employees, union representatives, or other persons; testimony of witnesses; official documents relating to the appeal, grievance, or complaint; Official Personnel Folder; and other Federal agencies.

EXEMPTIONS CLAIMED FOR THE SYSTEM:

None.

NRC-9

SYSTEM NAME:

Office of Small Business and Civil Rights Discrimination Complaint Files—NRC.

SYSTEM LOCATION:

Primary system—Office of Small Business and Civil Rights, NRC, Two White Flint North, 11545 Rockville Pike, Rockville, Maryland.

Duplicate system—A duplicate system may be maintained, in whole or in part, in the Office of the General Counsel, NRC, One White Flint North, 11555 Rockville Pike, Rockville, Maryland.

Categories of Individuals Covered by the System:

Applicants for NRC employment and current and former NRC employees who have initiated EEO counseling and/or filed a formal complaint of employment discrimination under Title VII of the Civil Rights Act, the Age Discrimination in Employment Act, the Equal Pay Act, and the Rehabilitation Act. Individuals in the United States in education programs or activities receiving Federal financial assistance from the NRC who initiated an informal complaint and/or filed a formal complaint of sex discrimination under Title IX of the Civil Rights Act. Individuals in the United States in programs or activities receiving Federal financial assistance from the NRC who initiated an informal complaint and/or filed a formal complaint of discrimination under Title VI of the Civil Rights Act, the Age Discrimination Act of 1975, Section 504 of the Rehabilitation Act of 1973, and Title IV of the Energy Reorganization Act of 1974, as amended.

Categories of Records in the System:

This system of records may contain copies of written reports by counselors; investigative files; administrative files, including documentation of withdrawn and/or dismissed complaints; complainant's name, title, and grade; types and theories of discrimination alleged; description of action and conditions giving rise to complaints, settlement agreements, and compliance documents; description of corrective and/or remedial actions; description of disciplinary actions, if any; request for hearings, procedural information, and hearing transcripts; procedural information and forms regarding Alternative Dispute Resolution (ADR); Equal Employment Opportunity Commission (EEOC), Merit System Protection Board (MSPB), Department of Education, and Department of Justice findings, analyses, decisions and orders; final agency decisions and final actions; and notices of intent to file in Federal District Court, notices of cases filed in Federal district court, and Federal court decisions.

Authority for Maintenance of the System:

29 U.S.C. 206(d), as amended (1996); 29 U.S.C. 633a, as amended (1995); 29 U.S.C. 791 et seq. (1978); 42 U.S.C. 2000e-16, as amended (2002); 42 U.S.C. 5891 (1974); Executive Order (E.O.) 11246, September 24, 1965; E.O. 11375, October 13, 1967; E.O. 12086, October 5, 1978; 29 CFR part 1614 (1999); and 10 CFR part 4 (2000).

Routine Uses of Records Maintained in the System, Including Categories of Users and the Purposes of Such Uses:

Information in these records may be used:

a. To furnish information related to discrimination complaints to the Equal Employment Opportunity Commission, the Office of Personnel Management, the Merit Systems Protection Board, the Department of Justice and the Department of Education, under applicable requirements; and

b. For any of the routine uses specified in the Prefatory Statement of General Routine Uses.

Policies and Practices for Storing, Retrieving, Accessing, Retaining, and Disposing of Records in the System:

Storage:

Maintained in file folders, binders, and on computer media.

Retrievability:

Accessed by name and docket number.

Safeguards:

Paper records are maintained in locked file cabinets. Computer records are password protected. Access to and use of these records are limited to those persons whose official duties require such access.

Retention and Disposal:

Official Discrimination Complaint Case Files are destroyed four years after the resolution of the case in accordance with GRS 1-25.a. Computer files are destroyed after the period authorized for the related hard copy files or when no longer needed, whichever is later.

System Manager(s) and Address:

Director, Office of Small Business and Civil Rights, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.” Some information was received in confidence and will not be disclosed to the extent that disclosure would reveal a confidential source.

Contesting Record Procedure:

Same as “Notification procedure.”

Record Source Categories:

Individual to whom the record pertains, counselors, mediators, NRC staff, the Equal Employment Opportunity Commission, the Office of Personnel Management, the Merit Systems Protection Board, the Department of Justice and/or Department of Education officials, affidavits or statements from complainants, testimony of witnesses, and official documents relating to the complaints.

Exemptions Claimed for the System:

Pursuant to 5 U.S.C. 552a(k)(5), the Commission has exempted portions of this system of records from 5 U.S.C. 552(c)(3), (d), (e)(4)(G), (H), and (I), and (f). The exemption rule is contained in 10 CFR 9.95 of the NRC regulations.

NRC-10

System Name:

Freedom of Information Act (FOIA) and Privacy Act (PA) Requests Records—NRC.

System Location:

Primary system—FOIA/Privacy Act Team, Web, Publishing, and Distribution Services Division, Office of the Chief Information Officer, NRC, Two White Flint North, 11545 Rockville Pike, Rockville, Maryland.

Duplicate system—Duplicate systems may exist, in whole or in part, at the locations listed in Addendum I, Parts 1 and 2.

Categories of Individuals Covered by the System:

Persons who have made FOIA or PA requests for NRC records.

Categories of Records in the System:

This system contains copies of the written requests from individuals or organizations made under the FOIA or PA, the NRC response letters, and related documents.

Authority for Maintenance of the System:

5 U.S.C. 552 and 552a (2002); 42 U.S.C. 2201, as amended (1992).

Routine Uses of Records Maintained in the System, Including Categories of Users and the Purposes of Such Uses:

Information in these records may be used:

a. If an appeal or court suit is filed with respect to any records denied;

b. For preparation of reports required by 5 U.S.C. 552 and 5 U.S.C. 552a; and

c. For any of the routine uses specified in the Prefatory Statement of General Routine Uses. Some of the FOIA records are made publicly available in the Public Electronic Reading Room accessible through the NRC Web site, http://www.nrc.gov.

Policies and Practices for Storing, Retrieving, Accessing, Retaining, and Disposing of Records in the System:

Storage:

Records are maintained in file folders, on microfiche, and computer media.

Retrievability:

Accessed by unique assigned number for each request and by requester's name.

Safeguards:

Records are maintained in locked file cabinets that are kept in locked rooms. Computerized records are password protected. Access to and use of these records are limited to those persons whose official duties require such access.

Retention and Disposal:

Records are retained in hard copy or electronic record format for 2 years from date of reply if the request is granted in accordance with GRS 14-11.a(1), 6 years if denied in accordance with GRS 14-11.a(3)(a), and 6 years from date of final determination, if appealed, in accordance with GRS 14-12.a. The FOIA/PA official files are on paper and in electronic form. FOIA/PA records are disposed of by placement in receptacles designated for classified and sensitive unclassified waste.

System Manager(s) and Address:

Freedom of Information Act and Privacy Act (FOIA/PA) Officer, Web, Publishing, and Distribution Services Division, Office of the Chief Information Officer, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Requests are made by individuals. The response to the request is based upon information contained in NRC records.

Exemptions Claimed for the System:

None.

NRC-11

System Name:

General Personnel Records (Official Personnel Folder and Related Records)—NRC.

System Location:

Primary system—For Headquarters and all Senior Executive Service (SES) personnel, Office of Human Resources, NRC, One and Two White Flint North, 11555 and 11545 Rockville Pike, Rockville, Maryland. For Regional personnel, at Regional Offices I-IV listed in Addendum I, Part 2.

Duplicate system—Duplicate systems exist, in whole or in part at the locations listed in Addendum I, Parts 1 and 2, and at the National Institutes of Health Computer Facility, Bethesda, Maryland. The duplicate systems maintained in a particular office, division, or branch may contain information of specific applicability to employees in that organization in addition to that information contained in the primary system.

Categories of Individuals Covered by the System:

Current NRC employees and those formerly employed by the NRC (terminated through death, resignation, retirement, or separation).

Categories of Records in the System:

This system contains personnel records that document an individual's Federal career and includes notification of personnel action (SF-50) and documents supporting the action taken; life insurance, thrift savings plan, health benefits and related beneficiary forms; letters of disciplinary action; notices of reductions-in-force; and other records retained in accordance with Office of Personnel Management's Guide to Personnel Recordkeeping. These records include employment information such as personal qualification statements (OF612), resumes, and related documents including information about an individual's birth date, social security number, veterans preference status, tenure, minority group designator, physical handicaps, past and present salaries, grades, position titles; employee locator forms identifying home and work address, phone numbers and emergency contacts; and certain medical records related to initial appointment and employment. Some duplicate records may contain office-specific applications, personnel qualification statements (SF-171), resumes, conflict of interest correspondence, and other related personnel records in addition to those contained in the primary system.

Authority for Maintenance of the System:

5 U.S.C. 7901 (2002); 42 U.S.C. 290dd-2; 42 U.S.C. 290ee-1 (2002); 42 U.S.C. 2201(d) (1992); Executive Order 9397, November 22, 1943.

Routine Uses of Records Maintained in the System, Including Categories of Users and the Purposes of SucH Uses:

Information in these records may be used:

a. By the Office of Personnel Management and/or Merit Systems Protection Board for making a decision when an NRC employee or former NRC employee questions the validity of a specific document in an individual's record;

b. To provide information to a prospective employer of a Government employee. Upon transfer of the employee to another Federal agency, the information is transferred to such agency;

c. To update monthly the Office of Personnel Management systems concerning the Central Personnel Data File (CPDF), the Executive Inventory File, and security investigations, and to update adverse actions and termination records of the Merit Systems Protection Board;

d. To provide statistical reports to Congress, agencies, and the public on characteristics of the Federal work force;

e. To provide information to the Office of Personnel Management and/or Merit Systems Protection Board for review and audit purposes;

f. To provide members of the public with the names, position titles, grades, salaries, appointments (temporary or permanent), and duty stations of employees;

g. For medical records, to provide information to the Public Health Service in connection with Health Maintenance Examinations and to other Federal agencies responsible for Federal benefit programs administered by the Department of Labor (Office of Workmen's Compensation Programs) and the Office of Personnel Management; and

h. For any of the routine uses specified in the Prefatory Statement of General Routine Uses.

Policies and Practices for Storing, Retrieving, Accessing, Retaining, and Disposing of Records in the System:

Storage:

Records are maintained in file folders and on computer media.

Retrievability:

Records are indexed by any combination of name, social security number, or identification number.

Safeguards:

Official Personnel Folders are maintained in locking cabinets and related documents may be maintained in unlocked file cabinets or an electromechanical file organizer. Computer files (Human Resources Management System (HRMS) Personnel Module) are password protected. Access to and use of these records are limited to those persons whose official duties require such access.

Retention and Disposal:

The Official Personnel Folder is sent to the next Federal employing office if the employee transfers, or to the National Personnel Records Center within 30 days of the date of the employee's separation from the Federal service in accordance with GRS 1-1.b—OPF. Correspondence and forms maintained on the left side of the Official Personnel Folder are temporary records and are maintained for the periods of time specified in The Guide to Personnel Recordkeeping or other agency guidelines in accordance with GRS 1-10. Computer records are retained until no longer needed.

System Manager(s) and Address:

For Headquarters and all NRC SES employees—Chief, Human Resources Services and Operations Programs, Office of Human Resources, U.S. Nuclear Regulatory Commission, Washington, DC 20555-0001.

For Region I-IV non-SES employees—The appropriate Regional Personnel Officer at the locations listed in Addendum I, Part 2.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information in this system of records comes from the individual to whom it applies; is derived from information supplied by that individual; or is provided by agency officials, other Federal agencies, universities, other academic institutions, or persons, including references, private and Federal physicians, and medical institutions.

Exemptions Claimed for the System:

Pursuant to 5 U.S.C. 552a(k)(5) and (k)(6), the Commission has exempted portions of this system of records from 5 U.S.C. 552a(c)(3), (d), (e)(1), (e)(4)(G), (H), and (I), and (f). The exemption rule is contained in 10 CFR 9.95 of the NRC regulations.

NRC-12

System Name:

Child Care Tuition Assistance Program Records—NRC.

System Location:

Office of Human Resources, NRC, Two White Flint North, 11545 Rockville Pike, Rockville, Maryland.

Categories of Individuals Covered by the System:

NRC employees who voluntarily apply for child care tuition assistance.

Categories of Records in the System:

These records include application forms for child care tuition assistance containing personal information, including employee (parent) name, social security number, grade, home and work telephone numbers, home and work addresses, total family income, name of child on whose behalf the parent is applying for tuition assistance, child's date of birth; information on child care providers used, including name, address, provider license number and State where issued, tuition cost, and provider tax identification number; and copies of IRS Form 1040 and 1040A for verification purposes.

Authority for Maintenance of the System:

Public Law 107-67, section 630, November 12, 2001, and Executive Order 9397, November 22, 1943.

Routine Uses of Records Maintained in the System, Including Categories of Users and the Purposes of Such Uses:

In addition to the disclosures permitted under subsection (b) of the Privacy Act, the NRC may disclose information contained in this system of records without the consent of the subject individual if the disclosure is compatible with the purpose for which the record was collected under the following routine uses:

a. To the Office of Personnel Management to provide statistical reports; and

b. For any of the routine uses specified in the Prefatory Statement of General Routine Uses.

Policies and Practices for Storing, Retrieving, Accessing, Retaining and Disposition of Records in the System:

Storage:

Information may be collected on paper or electronically and may be stored as paper forms or on computers.

Retrievability:

Information may be retrieved by employee name or social security number.

Safeguards:

When not in use by an authorized person, paper records are stored in lockable file cabinets and computer records are protected by the use of passwords.

Retention and Disposal:

The records in this system are currently unscheduled and must be retained until the National Archives and Records Administration (NARA) approves a records disposition schedule for this material.

System Manager(s) and Address:

Director, Office of Human Resources, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information in this system of records is obtained from NRC employees who apply for child care tuition assistance. Furnishing of the information is voluntary.

Exemptions Claimed for the System:

None.

NRC-13

System Name:

Incentive Awards Files—NRC.

System Location:

Primary system—Office of Human Resources, NRC, Two White Flint North, 11545 Rockville Pike, Rockville, Maryland.

Duplicate system—Duplicate systems exist, in whole or in part, at the locations listed in Addendum I, Parts 1 and 2.

Categories of Individuals Covered by the System:

Current and former NRC employees who merit special recognition for achievements either within or outside the employee's job responsibilities. Awards include both NRC awards and awards of other agencies and organizations for which NRC employees are eligible.

Categories of Records in the System:

This system of records contains employee's name, title, office, grade, and salary; justification to support recommendation and authorization for cash award; monetary amount of cash award; actions by approving officials; record of individuals receiving awards; suggestions and evaluations of suggestions; citation to be used; and related documents.

Authority for Maintenance of the System:

5 U.S.C. 4501-4513, 5336 (1993-2002).

Routine Uses of Records Maintained in the System, Including Categories of Users and the Purposes of Such Uses:

Information in these records may be used:

a. By the Office of Personnel Management to process and approve nominations or awards;

b. By the Office of the Attorney General and the President of the United States in reviewing recommended awards;

c. To make reports to the Office of Personnel Management and/or Merit Systems Protection Board;

d. By other Government agencies to recommend whether suggestions should be adopted in instances where the suggestion made by an NRC employee affects the functions or responsibilities of the agencies; and

e. For any of the routine uses specified in the Prefatory Statement of General Routine Uses.

Policies and Practices for Storing, Retrieving, Accessing, Retaining, and Disposing of Records in the System:

Storage:

Maintained on paper in file folders and computer media.

Retrievability:

Information is accessed by name, type of award, office, and year of award.

Safeguards:

Maintained in locking file cabinets and in a password-protected computer system. Access to and use of these records is limited to those persons whose official duties require such access.

Retention and Disposal:

a. Records relating to meritorious and distinguished service awards made at the Commission level, excluding those in the Official Personnel Folder, are permanent in accordance with NRCS 2-22.3.a;

b. Case files pertaining to NRC-sponsored awards, excluding those for departmental-level awards, are destroyed 2 years after approval or disapproval in accordance with GRS 1-12.a(1);

c. Correspondence pertaining to awards from other Federal agencies or non-Federal organizations are destroyed when 2 years old in accordance with GRS 1-12.a(2);

d. Letters of commendation and appreciation, excluding copies filed in the Official Personnel Folder, are destroyed when 2 years old in accordance with GRS 1-12.c;

e. Lists and indexes to agency award nominations are destroyed when superseded or obsolete in accordance with GRS 1-12.d; and

f. Computer files are continually updated and information deleted when no longer needed.

System Manager(s) and Address:

Manager, Human Resources Services and Benefits, Office of Human Resources, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

NRC employees, other agencies and organizations, and Official Personnel Folders.

Exemptions Claimed for the System:

None.

NRC-14

System Name:

Employee Assistance Program Files—NRC.

System Location:

Office of Human Resources, NRC, Two White Flint North, 11545 Rockville Pike, Rockville, Maryland.

Categories of Individuals Covered by the System:

NRC employees or family members who have been counseled by or referred to the Employee Assistance Program (EAP) for problems relating to alcoholism, drug abuse, job stress, chronic illness, family or relationship concerns, and emotional and other similar issues.

Categories of Records in the System:

This system contains records of NRC employees or their families who have participated in the EAP and the results of any counseling or referrals which may have taken place. The records may contain information as to the nature of each individual's problem, subsequent treatment, and progress.

Authority for Maintenance of the System:

5 U.S.C. 7901; 21 U.S.C. 1101; 42 U.S.C. 290dd-1 and 290dd-2 (2002); 44 U.S.C. 3101.

Routine Uses of Records Maintained in the System, Including Categories of Users and the Purposes of Such Uses:

Information in these records may be used:

a. For statistical reporting purposes; and

b. Any disclosure of information pertaining to an individual will be made in compliance with the Confidentiality of Alcohol and Drug Abuse Patient Records regulation, 42 CFR part 2, as authorized by 42 U.S.C. 290dd-2, as amended.

Policies and Practices for Storing, Retrieving, Accessing, Retaining, and Disposing of Records in the System:

Storage:

Maintained on paper in file folders and on computer media.

Retrievability:

Information accessed by the EAP identification number and name of the individual.

Safeguards:

Files are maintained in a safe under the immediate control of the Employee Assistance and Wellness Services Manager.

Retention and Disposal:

Employee counseling files are destroyed 3 years after termination of counseling in accordance with GRS 1-26.a. Information contained in the related statistical database is destroyed when no longer needed.

System Manager(s) and Address:

Manager, Employee Assistance and Wellness Services, Office of Human Resources, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information compiled by the Manager, Employee Assistance and Wellness Services, during the course of counseling with an NRC employee or members of the employee's family.

Exemptions Claimed for the System:

None.

NRC-15 [Revoked]

NRC-16

System Name:

Facility Operator Licensees Record Files (10 CFR Part 55)—NRC.

System Location:

For power reactors, at the appropriate Regional Office at the address listed in Addendum I, Part 2; for nonpower (test and research) reactor facilities, at the Operator Licensing and Human Performance Section, Equipment and Human Performance Branch, Division of Inspection Program Management, Office of Nuclear Reactor Regulation, NRC, One White Flint North, 11555 Rockville Pike, Rockville, Maryland. The Operator Licensing Tracking System (OLTS) is located at NRC Headquarters and is accessible by the four Regional Offices.

Categories of Individuals Covered by the System:

Individuals licensed under 10 CFR part 55, new applicants whose applications are being processed, and individuals whose licenses have expired.

Categories of Records in the System:

These records contain information pertaining to 10 CFR part 55 applicants for a license, licensed operators, and individuals who previously held licenses. This includes applications for a license, license and denial letters, and related correspondence; correspondence relating to actions taken against a licensee; 10 CFR part 50.74 notifications; certification of medical examination and related medical information; fitness for duty information; examination results and other docket information.

Authority for Maintenance of the System:

42 U.S.C. 2137 and 2201(i) (1992).

Routine Uses of Records Maintained in the System, Including Categories of Users and the Purposes of Such Uses:

Information in these records may be used:

a. To determine if the individual meets the requirements of 10 CFR part 55 to take an examination or to be issued an operator's license;

b. To provide researchers with information for reports and statistical evaluations related to selection, training, and examination of facility operators;

c. To provide for examination and testing material and obtain results from contractors;

d. To provide facility management with sufficient information to enroll the individuals in the licensed operator requalification program; and

e. For any of the routine uses specified in paragraph numbers 1, 2, 4, 5, and 6 of the Prefatory Statement of General Routine Uses.

Policies and Practices for Storing, Retrieving, Accessing, Retaining, and Disposing of Records in the System:

Storage:

Maintained on paper logs, paper in file folders, and computer media.

Retrievability:

Records are accessed by name and docket number.

Safeguards:

Maintained in locked file cabinets or an area that is locked. Computer access requires password. Access to and use of these records are limited to those persons whose official duties require such access.

Retention and Disposal:

a. Reactor Operator Licensees Records: Inactive case files (i.e., after latest license expiration/termination/revocation, application denial or withdrawal, or issuance of denial letter), are retired after 3 years to the Federal Records Center, and destroyed after 10 years in accordance with NRCS 2-24.13.

b. Operator Licensing Tracking System: Retained as long as system is operational. Destroyed 2 years after system terminates.

System Manager(s) and Address:

Chief, Operator Licensing and Human Performance Section, Equipment and Human Performance Branch, Division of Inspection Program Management, Office of Nuclear Reactor Regulation, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information in this system comes from the individual applying for a license, the Part 50 licensee, a licensed physician, members of the Operator Licensing and Human Performance Section, Equipment and Human Performance Branch or Regional Operator licensing branches, and other NRC and contractor personnel.

Exemptions Claimed for the System:

None.

NRC-17

System Name:

Occupational Injuries and Illness Records—NRC.

System Location:

Primary system—For Headquarters personnel, Office of Human Resources, NRC, Two White Flint North, 11545 Rockville Pike, Rockville, Maryland.

For Regional personnel, at each of the Regional Offices listed in Addendum I, Part 2.

Categories of Individuals Covered by the System:

NRC employees who report an occupational injury or illness.

Categories of Records in the System:

These records contain information regarding the location and descriptions of the injury or illness, treatment, and disposition as well as copies of Workman's Compensation claim forms.

Authority for Maintenance of the System:

5 U.S.C. 7902, as amended (2002); 29 U.S.C. 657(c), as amended (1998); Executive Order (E.O.) 12196, February 26, 1980; E.O. 12223, June 30, 1980; E.O. 12608, September 9, 1987.

Routine Uses of Records Maintained in the System, Including Categories of Users and the Purposes of Such Uses:

Information in these records may be used:

a. By the Agency Safety and Health Officer and/or the Chief, Human Resources Services and Operations, Office of Human Resources, to prepare periodic statistical reports on employees' health and injury status for transmission to and review by the Department of Labor;

b. For transmittal to the Secretary of Labor or an authorized representative under duly promulgated regulations;

c. For transmittal to the Office of Personnel Management and/or Merit Systems Protection Board as required to support individual claims; and

d. For any of the routine uses specified in the Prefatory Statement of General Routine Uses.

Policies and Practices for Storing, Retrieving, Accessing, Retaining, and Disposing of Records in the System:

Storage:

Maintained on paper in file folders and on computer media.

Retrievability:

Indexed by assigned employee case number or name under report category.

Safeguards:

Maintained in locked file cabinet under visual control of HR staff. Access to and use of these records are limited to those persons whose official duties require such access.

Retention and Disposal:

Employee case files are destroyed when 5 years old in accordance with GRS 1-34. Computer files are deleted after the expiration of the retention period authorized for the disposable hard copy file or when no longer needed, whichever is later.

System Manager(s) and Address:

Director, Office of Human Resources, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

NRC Public Health Unit; NRC Headquarters and Regional Office feeder reports; and forms with original information largely supplied by employees concerned, supervisors, witnesses, medical personnel, etc.

Exemptions Claimed for the System:

None.

NRC-18

System Name:

Office of the Inspector General (OIG) Investigative Records—NRC.

System Location:

Office of the Inspector General, NRC, Two White Flint North, 11545 Rockville Pike, Rockville, Maryland.

Categories of Individuals Covered by the System:

Individuals and entities referred to in complaints or actual investigative cases, reports, accompanying documents, and correspondence prepared by, compiled by, or referred to the OIG.

Categories of Records in the System:

The system comprises four parts: (1) An automated Text Management System containing reports of investigations and inspections closed since 1989 and brief descriptions of investigative cases open and pending in the OIG since 1989 that have not yet resulted, but will result, in investigative or inspection reports; (2) paper files of all OIG and predecessor Office of Inspector and Auditor (OIA) reports, correspondence, cases, matters, memoranda, materials, legal papers, evidence, exhibits, data, and work papers pertaining to all closed and pending investigations and inspections; (3) paper index card files of OIG and OIA cases closed from 1970 through 1989; and (4) an automated Allegations Tracking System that includes allegations referred to the OIG after 1985, whether or not the allegation progressed to an investigation or inspection, and dates that the investigation or inspection, if any, was opened and closed.

Authority for Maintenance of the System:

Inspector General Act of 1978, as amended, 5 U.S.C. App. 3 (2002); 42 U.S.C. 2035(c), 2201(c) (1992), and 5841(f) (1986).

Routine Uses of Records Maintained in the System, Including Categories of Users and the Purposes of SucH Uses:

In addition to the disclosures permitted under subsection (b) of the Privacy Act, OIG may disclose information contained in a record in this system of records without the consent of the subject individual if the disclosure is compatible with the purpose for which the record was collected under the following routine uses:

a. To any Federal, State, local, tribal, or foreign agency, or other public authority responsible for enforcing, investigating, or prosecuting violations of administrative, civil, or criminal law or regulation if that information is relevant to any enforcement, regulatory, investigative, or prosecutive responsibility of the receiving entity when records from this system of records, either by themselves or in combination with any other information, indicate a violation or potential violation of law, whether administrative, civil, criminal, or regulatory in nature.

b. To public or private sources to the extent necessary to obtain information from those sources relevant to an OIG investigation, audit, inspection, or other inquiry.

c. To a Federal, State, local, tribal, or foreign agency, or a public authority or professional organization if necessary to obtain information relevant to a decision by NRC or the requesting organization concerning the retention of an employee, the retention of a security clearance, the letting of a contract, or the issuance or retention of a license, grant, or other benefit, or other personnel action related to the record subject.

d. To a court, adjudicative body before which NRC is authorized to appear, Federal agency, individual or entity designated by NRC or otherwise empowered to resolve disputes, counsel or other representative, or witness or potential witness when it is relevant and necessary to the litigation if any of the parties listed below is involved in the litigation or has an interest in the litigation:

1. NRC, or any component of NRC;

2. Any employee of NRC where the NRC or the Department of Justice has agreed to represent the employee; or

3. The United States, where NRC determines that the litigation is likely to affect the NRC or any of its components.

e. To a private firm or other entity that OIG or NRC contemplates it will contract or has contracted for the purpose of performing any functions or analyses that facilitate or are relevant to an investigation, audit, inspection, inquiry, or other activity related to this system of records. The contractor, private firm, or entity needing access to the records to perform the activity shall maintain Privacy Act safeguards with respect to information. A contractor, private firm, or entity operating a system of records under 5 U.S.C. 552a(m) shall comply with the Privacy Act.

f. To another agency to the extent necessary for obtaining its advise on any matter relevant to an OIG investigation, audit, inspection, or other inquiry related to the responsibilities of the OIG.

g. To a member of Congress or to a congressional staff member in response to his or her inquiry made at the written request of the subject individual.

h. To the National Archives and Records Administration or to the General Services Administration for records management inspections conducted under 44 U.S.C. 2904 and 2906.

Disclosure to Consumer Reporting Agencies:

Disclosure pursuant to 5 U.S.C. 552a(b)(12):

Disclosure of information to a consumer reporting agency is not considered a routine use of records. Disclosures may be made from this system to “consumer reporting agencies” as defined in the Fair Credit Reporting Act (15 U.S.C. 1681a(f) (1970)) or the Federal Claims Collection Act of 1966, as amended (31 U.S.C. 3701(a)(3) (1996)).

Policies and Practices for Storing, Retrieving, Accessing, Retaining, and Disposing of Records in the System:

Storage:

Information contained in this system is stored manually on index cards, in files, and in various ADP storage media.

Retrievability:

Information is retrieved from the Text Management System alphabetically by the name of an individual, by case number, or by subject matter. Information in the paper files backing up the Text Management System and older cases closed by 1989 is retrieved by subject matter and/or case number, not by individual identifier. Information is retrieved from index card files for cases closed before 1989 by the name or numerical identifier of the individual or entity under investigation or by subject matter. Information in the Allegations Tracking System is retrieved by allegation number, case number, or name.

Safeguards:

The automated Text Management System is accessible only on one terminal in the OIG, is password protected, and is accessible only to OIG investigative personnel. Paper files backing up the Text Management System and older case reports and work papers are maintained in approved security containers and locked filing cabinets in a locked room; associated indices, records, diskettes, tapes, etc., are stored in locked metal filing cabinets, safes, storage rooms, or similar secure facilities. Index card files for older cases (1970-1989) are under visual control during working hours and are available only to authorized investigative personnel who have a need to know and whose duties require access to the information. The Allegations Tracking System is double-password-protected and is available to only two OIG investigative employees on only one terminal.

Retention and Disposal:

a. Investigative Case Files:

1. Files containing information or allegations that are of an investigative nature but do not relate to a specific investigation—Destroy when 5 years old in accordance with NARA approved schedule N1-431-00-2, Item 1.d.

2. All other investigative files, except those that are unusually significant—Place in inactive file when case is closed. Cut off inactive file at end of fiscal year. Destroy 10 years after cutoff in accordance with NARA approved schedule N1-431-00-2, Item 1.c.

3. Significant cases (those that result in national media attention, congressional investigation, or substantive changes in agency policy or procedures). PERMANENT. Cut off closed cases annually. Transfer to National Archives of the United States 20 years after cut off in accordance with NARA approved schedule N1-431-00-2, Item 1.b.

b. Index/Indices. Destroy or delete with the related records or sooner if no longer needed.

c. Text Management System. Delete after 10 years or when no longer needed, whichever is later.

d. Allegation Tracking System. Destroy when no longer needed.

System Manager(s) and Address:

Inspector General, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.” Information classified under Executive Order 12958 will not be disclosed. Information received in confidence will be maintained under the Inspector General Act, 5 U.S.C. app. 3, and the Commission's Policy Statement on Confidentiality, Management Directive 8.8, “Management of Allegations.”

Contesting Record Procedure:

Same as “Notification procedure.”

Record Source Categories:

The information in this system of records is obtained from sources including, but not limited to, the individual record subject; NRC officials and employees; employees of Federal, State, local, and foreign agencies; and other persons.

Exemptions Claimed for the System:

Under 5 U.S.C. 552a(j)(2), the Commission has exempted this system of records from subsections (c)(3) and (4), (d)(1)-(4), (e)(1)-(3), (5), and (8), and (g) of the Act. This exemption applies to information in the system that relates to criminal law enforcement and meets the criteria of the (j)(2) exemption. Under 5 U.S.C. 552a(k)(1), (k)(2), (k)(5), and (k)(6), the Commission has exempted portions of this system of records from 5 U.S.C. 552a(c)(3), (d), (e)(1), (e)(4)(G), (H), and (I), and (f). The exemption rule is contained in 10 CFR 9.95 of the NRC regulations.

NRC-19

System Name:

Official Personnel Training Records Files—NRC.

System Location:

Primary system—Office of Human Resources, NRC, Two White Flint North, 11545 Rockville Pike, Rockville, Maryland.

Duplicate system—Duplicate systems exist, in whole or in part, at the locations listed in Addendum I, Parts 1 and 2.

Categories of Individuals Covered by the System:

Individuals who have applied for or were selected for either NRC or other Government/non-Government training courses or programs.

Categories of Records in the System:

These records contain information relating to an individual's educational background and training courses including training requests and authorizations, evaluations, and supporting documentation, and other related personnel information, including but not limited to, individual's name, address, telephone number, position title, organization, and grade.

Authority for Maintenance of the System:

5 U.S.C. 3396 (1991); 5 U.S.C. 4103 (2002); Executive Order (E.O.) 9397, November 22, 1943; E.O. 11348, April 20, 1967, as amended by E.O. 12107, December 28, 1978.

Routine Uses of Records Maintained in the System, Including Categories of Users and the Purposes of Such Uses:

Information in these records may be:

a. Extracted from the records and made available to the Office of Personnel Management; other Federal, State, and local Government agencies; and educational institutions for use in training programs related to NRC employees; and

b. Disclosed for the routine uses specified in paragraph numbers 5 and 6 of the Prefatory Statement of General Routine Uses.

Policies and Practices for Storing, Retrieving, Accessing, Retaining, and Disposing of Records in the SYstem:

Storage:

Paper records are maintained in file folders. Computerized training data is maintained in the Human Resources Management System (HRMS) Training Module.

Retrievability:

Information is accessed by name, user identification number, course number, or course session number.

Safeguards:

Electronic records are maintained in a password-protected computer system, HRMS Training Module. Paper is maintained in lockable file cabinets and file rooms. Access to and use of these records is limited to those persons whose official duties require such access.

Retention and Disposal:

Paper forms are retained for 5 years, then destroyed by shredding in accordance with GRS 1-29.b. Information in the HRMS Training module is maintained until no longer needed for statistical and historical reference.

System Manager(s) and Address:

Associate Director for Training and Development, Office of Human Resources, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information is provided by the individual to whom it applies, the employee's supervisor, and training groups, agencies, or educational institutions and learning activities.

Exemptions Claimed for the System:

None.

NRC-20

System Name:

Official Travel Records—NRC.

System Location:

Primary system—Division of Accounting and Finance, Office of the Chief Financial Officer, NRC, Two White Flint North, 11545 Rockville Pike, Rockville, Maryland.

Duplicate system—Duplicate systems exist, in whole or in part, at the locations listed in Addendum I, Parts 1 and 2.

Categories of Individuals Covered by the System:

Current and former NRC employees, prospective NRC employees, consultants, and invitational travelers for NRC programs.

Categories of Records in the System:

These records contain Request and Authorization for Official Travel, Travel Vouchers, and related documentation, which includes, but is not limited to, an individual's name and social security number.

Authority for Maintenance of the System:

5 U.S.C. 5701 (2002); 31 U.S.C. 716, 1104, 1108, 3511, 3512, 3701, 3711, 3717, 3718 (1982-2002); Federal Travel Regulations, 41 CFR parts 301-304; Federal Property Management Regulations, 41 CFR Part 101-41; Executive Order 9397, November 22, 1943.

Routine Uses of Records Maintained in the System, Including Categories of Users and the Purposes of Such Uses:

Information in these records may be used:

a. For transmittal to the U.S. Treasury for payment;

b. For transmittal to the Department of State or an embassy for passports or visas; and

c. For any of the routine uses specified in the Prefatory Statement of General Routine Uses.

Disclosure to Consumer Reporting Agencies:

Disclosure pursuant to 5 U.S.C. 552a(b)(12):

Disclosures of information to a consumer reporting agency are not considered a routine use of records. Disclosures may be made from this system to “consumer reporting agencies” as defined in the Fair Credit Reporting Act (15 U.S.C. 1681a(f) (1970)) or the Federal Claims Collection Act of 1966, as amended (31 U.S.C. 3701(a)(3) (1996)).

Policies and Practices for Storing, Retrieving, Accessing, Retaining, and Disposing of Records in the System:

Storage:

Maintained on paper in file folders, on computer media, and on magnetic tape.

Retrievability:

Records are accessed by name, social security number, authorization number, and voucher payment schedule number.

Safeguards:

Maintained in key locked file cabinets in same room as users and in conserver files in a passcode locked room. Passports and visas are maintained in alarmed cashiers office. For electronic records, an identification number, a password, and assigned access to specific programs are required in order to retrieve information.

Retention and Disposal:

Paper records are retained for 6 years and 3 months after period covered by account, then destroyed through regular trash disposal system in accordance with GRS 9-1.a. Electronic records are deleted after the expiration of the retention period authorized for the disposable hard copy file or when no longer needed, whichever is later.

System Manager(s) and Address:

Chief, Travel and Accounts Payable Branch, Division of Accounting and Finance, Office of the Chief Financial Officer, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information is provided by the individual, the organizational component approving the travel, outside transportation agents, and Federal Register for per diem rates.

Exemptions Claimed for the System:

None.

NRC-21

System Name:

Payroll Accounting Records—NRC.

System Location:

Primary system—Division of Accounting and Finance, Office of the Chief Financial Officer, NRC, Two White Flint North, 11545 Rockville Pike, Rockville, Maryland.

Duplicate system—Duplicate systems exist, in whole or in part, at the locations listed in Addendum I, Parts 1 and 2.

Categories of Individuals Covered by the System:

Current and former NRC employees, special Government Employees, and consultants.

Categories of Records in the System:

Pay, leave, allowance histories, and labor activities, which includes, but is not limited to, an individual's name and social security number.

Authority for Maintenance of the System:

Pub. L. 104-193, Personal Responsibility and Work Opportunity Reconciliation Act of 1996; 5 U.S.C. 6334 (1988); 31 U.S.C. 716, 1104, 1108, 1114, 3325, 3511, 3512, 3701, 3711, 3717, 3718 (1982-2002); Executive Order 9397, November 22, 1943.

Routine Uses of Records Maintained in the System, Including Categories of Users and the Purposes of Such Uses:

In addition to the disclosures permitted under subsection (b) of the Privacy Act, the NRC may disclose information contained in this system of records without the consent of the subject individual if the disclosure is compatible with the purpose for which the record was collected under the following routine uses:

a. For transmittal of data to U.S. Treasury to effect issuance of paychecks to employees and consultants and distribution of pay according to employee directions for savings bonds, allotments, financial institutions, and other authorized purposes including the withholding and reporting of Thrift Savings Plan deductions to the Department of Agriculture's National Finance Center;

b. For reporting tax withholding to Internal Revenue Service and appropriate State and local taxing authorities;

c. For FICA deductions to the Social Security Administration;

d. For dues deductions to labor unions;

e. For withholding for health insurance to the insurance carriers and the Office of Personnel Management;

f. For charity contribution deductions to agents of charitable institutions;

g. For annual W-2 statements to taxing authorities and the individual;

h. For transmittal to the Office of Management and Budget for financial reporting;

i. For withholding and reporting of retirement, re-employed annuitants, and life insurance information to the Office of Personnel Management;

j. For transmittal of information to State agencies for unemployment purposes;

k. For transmittal to the Office of Child Support Enforcement, Administration for Children and Families, Department of Health and Human Services Federal Parent Locator System and Federal Tax Offset System for use in locating individuals and identifying their income sources to establish paternity, establish and modify orders of support, and for enforcement action;

l. For transmittal to the Office of Child Support Enforcement for release to the Social Security Administration for verifying social security numbers in connection with the operation of the Federal Parent Locator System by the Office of Child Support Enforcement;

m. For transmittal to the Office of Child Support Enforcement for release to the Department of Treasury for purpose of administering the Earned Income Tax Credit Program (Section 32, Internal Revenue Code of 1986) and verifying a claim with respect to employment in a tax return;

n. To the National Archives and Records Administration or to the General Services Administration for records management inspections conducted under 44 U.S.C. 2904 and 2906; and

o. For any of the routine uses specified in the Prefatory Statement of General Routine Uses.

Disclosure to Consumer Reporting Agencies:

Disclosure pursuant to 5 U.S.C. 552a(b)(12):

Disclosures of information to a consumer reporting agency are not considered a routine use of records. Disclosures may be made from this system to “consumer reporting agencies” as defined in the Fair Credit Reporting Act (15 U.S.C. 1681a(f) (1970)) or the Federal Claims Collection Act of 1966, as amended (31 U.S.C. 3701(a)(3) (1996)).

Policies and Practices for Storing, Retrieving, Accessing, Retaining, and Disposing of Records in the System:

Storage:

Information is maintained in computerized form, on microfiche, and in paper copy. Computerized form includes information stored in memory, on disk and magnetic tape, and on computer printouts.

Retrievability:

Information is accessed by employee identification number, name and social security number.

Safeguards:

Records in the primary system of records are maintained in buildings where access is controlled by a security guard force. File folders, microfiche, tapes, and disks, including backup data, are maintained in secured locked rooms and file cabinets after working hours. All records are in areas where access is controlled by keycard and is limited to NRC and contractor personnel and to others who need the information to perform their official duties. Access to computerized records requires use of proper passwords and user identification codes.

Retention and Disposal:

a. Individual employee pay record for each employee and consultant maintained in the electronic Human Resources Management System (HRMS) Time and Labor/Payroll modules is updated in accordance with GRS 2-1.a.

b. Individual employee pay records containing pay data on each employee and consultant maintained in the Annual and Quarterly Employee History Records on microfiche are transferred to the National Personnel Records Center and destroyed when 56 years old in accordance with GRS 2-1.b.

c. Copies of non-current payroll data maintained on microfiche are destroyed 15 years after close of pay year in which generated in accordance with GRS 2-2.

d. Employee and Consultant Payroll Records:

1. U.S. savings bond authorizations are destroyed when superseded or after separation of employee in accordance with GRS 2-14.a.

2. Combined Federal Campaign allotment authorizations are destroyed after Government Accounting Office (GAO) audit or when 3 years old, whichever is sooner, in accordance with GRS 2-15.a.

3. Union dues and savings allotment authorizations are destroyed after GAO audit or when 3 years old, whichever is sooner, in accordance with GRS 2-15.b.

4. Payroll Change Files consisting of records used to change or correct an individual's pay transaction are destroyed after GAO audit or when 3 years old, whichever is sooner, in accordance with GRS 2-23.a.

5. Tax Files consisting of State and Federal withholding tax exemption certificates, such as Internal Revenue Service (IRS) Form W-4 and the equivalent State form are destroyed 4 years after the form is superseded or obsolete or upon separation of employee in accordance with GRS 2-13.a.

6. Agency copy of employee wages and tax statements, such as IRS Form W-2 and State equivalents, are destroyed when 4 years old in accordance with GRS 2-13.b.

7. Leave record prepared upon transfer or separation of employee maintained in the Payroll office is destroyed when 3 years old in accordance with GRS 2-9.b.

e. Time and attendance source records maintained by Time and Attendance clerks and certifying officials are destroyed after GAO audit or when 6 years old, whichever is sooner, in accordance with GRS 2-7.

f. Electronic time and attendance input records maintained in the HRMS Time and Labor/Payroll modules are destroyed after GAO audit or when 6 years old, whichever is sooner, in accordance with GRS 2-8.

g. Payroll system reports providing fiscal information on agency payroll consisting of hardcopy and microfiche reports generated by the HRMS Time and Labor/Payroll modules are destroyed when 3 years old, excluding the long-term Employee History Reports, in accordance with GRS 2-22.c.

h. Payroll system reports serving as error reports, ticklers, system operation reports are destroyed when related actions are completed or when no longer needed, not to exceed 2 years, in accordance with GRS 2-22.a.

i. Official notice of levy or garnishment (IRS Form 668A or equivalent), change slip, work papers, correspondence, release and other forms, and other records relating to charge against retirement funds or attachment of salary for payment of back income taxes or other debts of Federal employees are destroyed 3 years after garnishment is terminated in accordance with GRS 2-18.

System Manager(s) and Address:

Chief, Payroll and Labor Reporting Branch, Division of Accounting and Finance, Office of the Chief Financial Officer, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure”.

Contesting Record Procedure:

Same as “Notification procedure”.

Record Source Categories:

Information in this system of records is obtained from sources, including but not limited to the individual to whom it pertains, the Office of Human Resources and other NRC officials, and other agencies and entities.

Exemptions Claimed for the System:

None.

NRC-22

System Name:

Personnel Performance Appraisals—NRC.

System Location:

Primary system—Part A: For Headquarters personnel, Office of Human Resources, NRC, 11545 and 11555 Rockville Pike, Rockville, Maryland. For Regional personnel, at Regional Offices I-IV listed in Addendum I, Part 2.

Part B: Office of Human Resources, NRC, 11545 and 11555 Rockville Pike, Rockville, Maryland.

Duplicate system—Duplicate systems exist in whole or in part at the locations listed in Addendum I, except for Part B, which is stored only at Headquarters.

Categories of Individuals Covered by the System:

NRC employees other than contractor employees, Commissioners, or temporary personnel employed for less than 1 year.

Part A: Senior Level System employees, GG-1 through GG-15 employees, hourly wage employees, and administratively determined rate employees.

Part B: Senior Executive Service and equivalent employees.

Categories of Records in the System:

This system of records contains performance appraisals, including elements and standards, and other related records.

Authority for Maintenance of the System:

5 U.S.C. 4301, et seq. (2002); 5 U.S.C. 4311 et seq. (1978); 42 U.S.C. 2201(d) (1992), 5841 (1986); and 5 CFR 293.404(a) (2000).

Routine Uses of Records Maintained in the System, Including Categories of Users and the Purposes of Such Uses:

In addition to the disclosures permitted under subsection (b) of the Privacy Act, the NRC may disclose information contained in this system of records without the consent of the subject individual if the disclosure is compatible with the purpose for which the record was collected under the following routine uses:

a. By agency management and the Office of Human Resources for personnel functions; and

b. For any of the routine uses specified in the Prefatory Statement of General Routine Uses.

Policies and Practices for Storing, Retrieving Accessing, Retaining, and Disposing of Records in the System:

Storage:

Information is maintained in computerized form and in paper copy in locking file cabinets. Computerized form includes information stored in memory, on disk and magnetic tape, and on computer printouts. Summary ratings are stored in a computer system protected by password and user identification codes.

Retrievability:

Records are accessed by name. Computer records are accessed by name and social security number.

Safeguards:

Records are maintained in areas where access is controlled by keycard and is limited to NRC and contractor personnel and to others who need the information to perform their official duties. Access to the two Headquarters buildings in Rockville, Maryland, is controlled by a security guard force. Paper records are maintained in folders in locking file cabinets. Access to computerized records requires use of proper passwords and user identification codes.

Retention and Disposal:

Part A: Records are normally retained for 4 years, then destroyed by incineration in accordance with GRS 1-23.a(4). If an employee separates, the records are forwarded to the next Government agency employer or to the National Personnel Records Center in accordance with GRS 1-23.a(3)(a).

Part B: Retained for 5 years, or until the fifth annual appraisal is completed, whichever is later, then destroyed by incineration in accordance with GRS 1-23.b(3). If the employee separates, the records are forwarded to the next Government agency employer or to the National Personnel Records Center in accordance with GRS 1-23.b(2)(a).

Electronic records: Deleted after the expiration of the retention period authorized for the disposable hard copy file or when no longer needed, whichever is later in accordance with GRS 20-3.a.

System Manager(s) and Address:

Chief, Human Resources Services and Operations, Office of Human Resources, U.S. Nuclear Regulatory Commission, Washington, DC 20555-0001. For Regional personnel, at Regional Offices I-IV listed in Addendum I, Part 2.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure”.

Contesting Record Procedure:

Same as “Notification procedure”.

Record Source Categories:

Part A: Individual to whom record pertains and employee's supervisors.

Part B: Individual to whom record pertains and employee's supervisors and any documents and sources used to develop critical elements and performance standards for that Senior Executive Service position.

Exemptions Claimed for the System:

Pursuant to 5 U.S.C. 552a(k)(1) and (k)(5), the Commission has exempted portions of this system of records from 5 U.S.C. 552a(c)(3), (d), (e)(1), (e)(4)(G), (H), and (I), and (f). The exemption rule is contained in 10 CFR 9.95 of the NRC regulations.

NRC-23

System Name:

Office of Investigations Indices, Files, and Associated Records—NRC.

System Location:

Primary system—Office of Investigations, NRC, One White Flint North, 11555 Rockville Pike, Rockville, Maryland.

Duplicate system—Duplicate systems exist, in whole or in part, at the locations listed in Addendum I, Parts 1 and 2.

Categories of Individuals Covered by the System:

Individuals and entities referred to in potential or actual cases and matters of concern to the Office of Investigations and correspondence on subjects directed or referred to the Office of Investigations.

Categories of Records in the System:

The system consists of alphabetical and numerical index files bearing individual names and identifiers, and a numerical index of case numbers. These indices provide access to associated records that are arranged by subject matter, title, or identifying number(s) or letter(s). The system incorporates the records of all Office of Investigations correspondence, cases, memoranda, materials including, but not limited to, investigative reports, confidential source information, correspondence to and from the Office of Investigations, memoranda, fiscal data, legal papers, evidence, exhibits, technical data, investigative data, work papers, and management information data.

Authority for Maintenance of the System:

42 U.S.C. 2035(c), 2201(c) (1992), and 5841(f) (1986).

Routine Uses of Records Maintained in the System, Including Categories of Users and the Purposes of Such Uses:

a. A record in the system of records may be disclosed as a routine use to a Federal, State, local, or foreign agency or to an individual or organization if the disclosure is reasonably necessary to elicit information or to obtain the cooperation of a witness or an informant.

b. A record in the system of records relating to a case or matter falling within the purview of the Office of Investigations may be disclosed as routine use to the referring agency, group, organization, or individual.

c. A record in the system of records relating to an individual held in custody pending arraignment, trial, or sentence, or after conviction, may be disclosed as a routine use to a Federal, State, local, or foreign prison, probation, parole, or pardon authority, to any agency or individual concerned with the maintenance, transportation, or release of such an individual.

d. A record in the system of records relating to a case or matter may be disclosed as a routine use to a foreign country under an international treaty or agreement.

e. A record in the system of records may be disclosed as a routine use to a Federal, State, local, or foreign law enforcement agency to assist in the general crime prevention and detection efforts of the recipient agency or to provide investigative leads to the agency.

f. A record in the system of records may be disclosed for any of the routine uses specified in the Prefatory Statement of General Routine Uses.

Policies and Practices for Storing, Retrieving, Accessing, Retaining, and Disposing of Records in the System: Storage:

Information contained in this system is manually stored on index cards, in files, and in various ADP storage media.

Retrievability:

Information is retrieved from indices by the name or identifier of the individual or entity, and from the files by number(s) and/or letter(s) assigned and appearing in the indices.

Safeguards:

The index is maintained in approved security containers and locking filing cabinets; and the indices, associated records, disks, tapes, etc., are located in locking metal filing cabinets, safes, storage rooms, or similar secure facilities. All records are under visual control during duty hours and are available only to authorized personnel who have a need to know and whose duties require access to the information.

Retention and Disposal:

a. Investigation Case Files:

1. Significant headquarters official case files (received media attention, were of significant interest to Congress, involved extensive litigation, etc.) are retained by the Government permanently in accordance with NRCS 2-17.2.a. Hold in office for 2 years after closing, then retire to the Office of the Chief Information Officer. Transfer closed case files in 20—year blocks to the National Archives.

2. Other headquarters official case files—Hold in office 2 years after closing, then retire to the Office of the Chief Information Officer. Destroy 20 years after cases are closed in accordance with NRCS 2-17.2.b.

3. Regional office or investigator working files—Retained in regional files for 6 months. At the end 6 months, they are forwarded to headquarters and combined with the headquarters files in accordance with NRCS 2-17.2.c.

b. Index/Indices—Destroy or delete with related records or sooner if no longer needed.

System Manager(s) and Address:

Director, Office of Investigations, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Records Access Procedures:

Same as “Notification procedure.” Information classified under Executive Order 12958 will not be disclosed. Information received in confidence will be maintained under the Commission's Policy Statement on Confidentiality, Management Directive 8.8, “Management of Allegations” (formerly NRC Manual Chapter 0517), and the procedures covering confidentiality in Chapter 7 of the Office of Investigations Procedures Manual and will not be disclosed to the extent that disclosure would reveal a confidential source.

Contesting Record Procedure:

Same as “Notification procedure.”

Record Source Categories:

The information in this system of records is obtained from sources including, but not limited to, NRC officials and employees; Federal, State, local, and foreign agencies; and other persons.

Exemptions Claimed for the System:

Pursuant to 5 U.S.C. 552a(k)(1), (k)(2), and (k)(6), the Commission has exempted portions of this system of records from 5 U.S.C. 552a(c)(3), (d), (e)(1), (e)(4)(G), (H), and (I), and (f). The exemption rule is contained in 10 CFR 9.95 of the NRC regulations.

NRC-24

System Name:

Property and Supply System (PASS)—NRC.

System Location:

Primary system—Property and Acquisition Oversight Branch, Division of Contracts, Office of Administration, NRC, Two White Flint North, 11545 Rockville Pike, Rockville, Maryland;

Duplicate system—Duplicate systems may exist, in whole or in part, at locations listed in Addendum I, Parts 1 and 2.

Categories of Individuals Covered by the System:

NRC employees and contractors who have custody of Government property.

Categories of Records in the System:

PASS contains records of NRC sensitive and nonsensitive equipment, which includes but is not limited to, acquisition and depreciated costs, date of acquisition, item description, manufacturer, model number, serial number, stock number, tag number, property custodians, user id, office affiliation, office location, and furniture and supply records.

Authority for Maintenance of the System:

40 U.S.C. 483(b), (c) (1981) and 487(a) (1994); Executive Order 9397, November 22, 1943.

Routine Uses of Records Maintained in the System, Including Categories of Users and the Purposes of Such Uses:

Information in these records may be used:

a. To maintain an inventory and accountability of Government property;

b. To provide information for clearances of employees who separate from the NRC; and

c. For any of the routine uses specified in paragraph numbers 1, 3, 5, and 6 of the Prefatory Statement of General Routine Uses.

Policies and Practices for Storing, Retrieving, Accessing, Retaining, and Disposing of Records in the System:

Storage:

Maintained in automated system with history files.

Retrievability:

Accessed by NRC tag number, user id, organization, office location and stock number.

Safeguards:

Access to and use of these records are limited to those persons whose official duties require such access. Electronic records are password protected.

Retention and Disposal:

The hardcopy records are retained for up to 3 years after an individual's responsibility for the assigned equipment terminates; then they are destroyed by shredding or in the regular trash disposal system in accordance with GRS 8-3. The major automated records are destroyed when no longer needed, or at the same time as the hardcopy records, whichever is later. Minor automated tracking systems are destroyed when no longer needed.

System Manager(s) and Address:

Chief, Property and Acquisition Oversight Branch, Division of Contracts, Office of Administration, U.S. Nuclear Regulatory Commission, Washington, DC 20555-0001;

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information in this system is provided by property custodians, contract specialists, and purchase card holders and/or other individuals buying equipment or supplies on behalf of the NRC.

Exemptions Claimed for the System:

None.

NRC-25

System Name:

Oral History Program—NRC.

System Location:

Office of the Secretary, NRC, One White Flint North, 11555 Rockville Pike, Rockville, Maryland.

Categories of Individuals Covered by the System:

NRC employees, former employees, and other individuals who volunteer to be interviewed for the purpose of providing information for a history of the nuclear regulatory program.

Categories of Records in the System:

Records consist of interviews on magnetic tape and transcribed scripts of the interviews.

Authority for Maintenance of the System:

42 U.S.C. 2161(b) (1992).

Routine Uses of Records Maintained in the System, Including Categories of Users and the Purposes of Such Uses:

Information in these records may be used:

a. For incorporation in publications on the history of the nuclear regulatory program; and

b. To provide information to historians and other researchers.

Policies and Practices for Storing, Retrieving, Accessing, Retaining, and Disposing of Records in the System:

Storage:

Maintained on magnetic tape and transcripts.

Retrievability:

Information is accessed by the name of the interviewee.

Safeguards:

Maintained in locked file room. Access to and use of these records are limited to those authorized by the Historian or a designee.

Retention and Disposal:

Transcripts are retained permanently in accordance with NRCS 1-2.2.a. Tapes are retained until no longer needed then erased and reused.

System Manager(s) and Address:

NRC Historian, Office of the Secretary, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information in this system of records is obtained from interviews granted on a voluntary basis to the Historian and his or her staff.

Exemptions Claimed for the System:

None.

NRC-26

System Name:

Full Share Program Records—NRC.

System Location:

Office of Administration, Administrative Services Center, NRC, One White Flint North, 11555 Rockville Pike, Rockville, Maryland.

Categories of Individuals Covered by the System:

NRC Federal Government employees who apply for subsidized mass transit costs.

Categories of Records in the System:

The records consist of an individual's application to participate in the program which includes, but is not limited to, the applicant's name, home address, office telephone number, social security number, and information regarding employee's commuting schedule and mass transit system(s) used.

Authority for Maintenance of the System:

26 U.S.C. 132 (2001); 31 U.S.C. 3511 (1982); 41 CFR 101-201.104-3(a) (2001); Executive Order (E.O.) 9397, November 22, 1943; E.O. 13150, Federal Workforce Transportation; Qualified Transportation Fringe Benefits, 66 FR 2241 (2001); NRC Management Directive 3.53, Records Management.

Routine Uses of Records Maintained in the System, Including Categories of Users and the Purposes of Such Uses:

Information in these records may be used:

a. To provide statistical reports to the city, county, State, and Federal Government agencies;

b. To provide the basis for program approval and issue monthly subsides; and

c. For the routine uses specified in paragraph numbers 1, 4, 5, and 6 in the Prefatory Statement of General Routine Uses.

Policies and Practices for Storing, Retrieving, Accessing, Retaining, and Disposing of Records in the System: Storage:

Maintained on paper in file folders and on computer media.

Retrievability:

Accessed by scanned NRC badge and name. Access by social security number when an individuals photo identification badge is scanned to record receipt of their metro check.

Safeguards:

Paper records and backup disks are maintained in locked file cabinets under visual control of the Administrative Services Center. Computer files are maintained on a hard drive, access to which is password protected. Access to and use of these records are limited to those persons whose official duties require access.

Retention and Disposal:

Records are destroyed when 3 years old in accordance with GRS 9-7. Paper copies are destroyed by shredding. Computer files are destroyed by deleting the record from the file.

System Manager(s) and Address:

Chief, Administrative Services Center, Division of Administrative Services, Office of Administration, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

NRC employees.

Exemptions Claimed for the System:

None.

NRC-27

System Name:

Radiation Exposure Information and Reports System (REIRS) Files—NRC.

System Location:

Primary system—Science Applications International Corporation (SAIC), 301 Laboratory Road, Oak Ridge, Tennessee 37830.

Duplicate system—Duplicate systems exist, in whole or in part, at the locations listed in Addendum I, Parts 1 and 2.

Categories of Individuals Covered by the System:

Individuals monitored for radiation exposure while employed by or visiting or temporarily assigned to certain NRC-licensed facilities; individuals who are exposed to radiation or radioactive materials in incidents required to be reported under 10 CFR 20.2201-20.2204 and 20.2206 by all NRC licensees; individuals who may have been exposed to radiation or radioactive materials offsite from a facility, plant installation, or other place of use of licensed materials, or in unrestricted areas, as a result of an incident involving byproduct, source, or special nuclear material.

Categories of Records in the System:

These records contain information relating to an individual's name, sex, social security number, birth date, period of employment, place and period date of exposure; name and license number of individual's employer; name and number of licensee reporting the information; radiation doses or estimates of exposure received during this period, type of radiation, part(s) or organ(s) exposed, and nuclide(s) involved.

Authority for Maintenance of the System:

42 U.S.C. 2073, 2093, 2095, 2111, 2133, 2134, and 2201(o) (1992); 10 CFR 20.2106, 20.2201-20.2204, and 20.2206 (2002); Executive Order 9397, November 22, 1943.

Routine Uses of Records Maintained in the System, Including Categories of Users and the Purposes of Such Uses:

Information in these records may be used:

a. To provide data to other Federal and State agencies involved in monitoring and/or evaluating radiation exposure received by individuals as enumerated in the paragraph “Categories of individuals covered by the system”;

b. To return data provided by licensee upon request; and

c. For any of the routine uses specified in the Prefatory Statement of General Routine Uses.

Policies and Practices for Storing, Retrieving, Accessing, Retaining, and Disposing of Records in the System: Storage:

Records are computerized and maintained in a centralized database management system. Backup tapes of the database are generated and maintained at a secure, off site location for disaster recovery purposes. During the processing and data entry, paper records are temporarily stored in designated business offices that are locked when not in use and are accessible only to authorized personnel. Upon completion of data entry and processing, the paper records are stored in an off site security storage facility accessible only to authorized personnel.

Retrievability:

Records are accessed by individual name, social security number, and by licensee name or number.

Safeguards:

Information maintained at SAIC is accessible only to the Office of Nuclear Regulatory Research, individuals that have been authorized for access by NRC, and SAIC employees that are directly involved in the REIRS project. Reports received and reviewed by the Office of Nuclear Regulatory Research are in file cabinets and bookcases in a secured building. A log is maintained of both telephone and written requests for information.

The data maintained in the REIRS database are protected from unauthorized access by several means. The database server resides in a protected environment with physical security barriers under key-card access control. Accounts authorizing access to the server and databases are maintained by the SAIC REIRS system administrator. In addition, SAIC maintains a computer security “firewall” that further restricts access to the SAIC computer network. Authorization for access must be approved by NRC, SAIC project management, and SAIC computer security. Transmittal of data via the Internet is protected by data encryption.

Retention and Disposal:

a. Original paper documents from which all data are entered into REIRS are destroyed 2 years after input into REIRS in accordance with NRCS 2-21.8.a;

b. Original paper documents from which only selected data are entered into REIRS are retained permanently in accordance with NRCS 2-21.8.b;

c. Log books are retained permanently;

d. Paper documents generated for QC purposes are destroyed 2 years after input into REIRS; and

e. Floppy disks and compact disks are destroyed 2 years after input into REIRS.

System manager(s) and Address:

REIRS Project Manager, Radiation Protection, Environmental Risk, and Waste Management Branch, Division of Systems Analysis and Regulatory Effectiveness, Office of Nuclear Regulatory Research, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information in this system of records either comes from licensees required to report radiation exposure information; the subject individual; the individual's employer; the person in charge of the facility where the individual has been assigned; or NRC Form 5, Occupational Exposure Record for a Monitoring Period.

Exemptions Claimed for the System:

None.

NRC-28

System Name:

Recruiting, Examining, and Placement Records—NRC.

System Location:

Primary system—For Headquarters personnel, Office of Human Resources, NRC, One and Two White Flint North, 11555 and 11545 Rockville Pike, Rockville, Maryland. For Regional personnel, at each of the Regional Offices listed in Addendum I, Part 2.

Duplicate system—Duplicate systems exist, in whole or in part, at the locations listed in Addendum I, Parts 1 and 2.

Categories of Individuals Covered by the System:

Persons who have applied for Federal employment with the NRC.

Categories of Records in the System:

This system contains application information of persons applying to NRC for Federal employment or merit promotion within the NRC, including application for Federal employment (OF-612, resume or similar documents); job descriptions; examination results; supervisory evaluation or performance appraisal forms; reference forms; and related correspondence. These records include applicant information relating to education, training, employment history, earnings, past performance, awards and commendations, citizenship, veteran's preference, birth date, social security number, and home address and telephone numbers.

Authority for Maintenance of the System:

5 U.S.C. 3301, 5101, 7201 (1966); 42 U.S.C. 2000e (1991); 42 U.S.C. 2201(d) (1992); Executive Order (E.O.) 9397, November 22, 1943; E.O. 11478, August 8, 1969, as amended by E.O. 11590, April 23, 1971; E.O. 12106, December 28, 1978.

Routine Uses of Records Maintained in the System, Including Categories of Users and the Purposes of Such Uses:

Information in these records may be used:

a. To prepare reports for a variety of internal and external sources including the Office of Personnel Management, Merit Systems Protection Board; EEOC and EEO Investigators; Union representatives and EEO Committee representatives, and

b. For any of the routine uses specified in the Prefatory Statement of General Routine Uses.

Policies and Practices for Storing, Retrieving, Accessing, Retaining, and Disposing of Records in the System: Storage:

Records are maintained on paper in file folders and on computer media.

Retrievability:

Records are indexed by any combination of recruitment action number, applicant name, social security number or identification number.

Safeguards:

Maintained in lockable file cabinets and in a password protected automated system, NRCareers. Access to and use of these records are limited to those persons whose official duties require such access.

Retention and Disposal:

a. Applications and related correspondence are destroyed when 2 years old in accordance with GRS 1-15;

b. Registers of eligibles are destroyed 5 years after an individual's eligibility terminates in accordance with GRS 1-33.f;

c. Canceled and ineligible applications are returned to the applicant or are destroyed 90 days after date of action in accordance with GRS 1-33.h;

d. Eligible applications are destroyed upon termination of the register unless brought forward to new register or placed on inactive register in accordance with GRS 1-33.k;

e. Electronic records contained in NRCareers are destroyed when 2 years old or when no longer needed, whichever is later; and

f. General correspondence records are destroyed when 3 years old in accordance with GRS 1-3.

System Manager(s) and Address:

Chief, Human Resources Services and Operations, Office of Human Resources, U.S. Nuclear Regulatory Commission, Washington, DC 20555-0001. For applicants to the Honor Law Graduate Program—Chief, Program Support Branch, Office of the General Counsel, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.” Some information was received in confidence and will not be disclosed to the extent that disclosure would reveal a confidential source.

Contesting Record Procedure:

Same as “Notification procedure.”

Record Source Categories:

Information in this system of records either comes from the individual to whom it applies or is derived from information supplied by that individual, individual's current and previous supervisors within and outside NRC, preemployment evaluation data furnished by references and educational institutions whose names were supplied by applicant, and information from other Federal agencies.

Exemptions Claimed for the System:

Pursuant to 5 U.S.C. 552a(k)(5), the Commission has exempted portions of this system of records from 5 U.S.C. 552a(c)(3), (d), (e)(1), (e)(4)(G), (H), and (I), and (f). The exemption rule is contained in 10 CFR 9.95 of the NRC regulations.

NRC-29 [Revoked.] NRC-30

System Name:

Reactor Program System (RPS)/Regulatory Information Tracking System (RITS)—NRC.

System Location:

Primary system—Office of the Chief Information Officer, NRC, Two White Flint North, 11545 Rockville Pike, Rockville, Maryland.

Duplicate systems—Duplicate systems exist, in whole or in part, at the locations listed in Addendum I, Parts 1 and 2, and at the National Institutes of Health Computer Facility, Bethesda, Maryland.

Categories of Individuals Covered by the System:

NRC employees.

Categories of Records in the System:

These records include, but are not limited to, the number of regular and non-regular hours worked, the nature of the work, work load projections, scheduling, and project assignments.

Authority for Maintenance of the System:

42 U.S.C. 2201(d), 2201(p) (1996).

Routine Uses of Records Maintained in the System, Including Categories of Users and the Purposes of Such Uses:

Information in these records may be used:

a. As a project management tool in various management records throughout the NRC; and

b. For the routine uses specified in paragraph numbers 5 and 6 of the Prefatory Statement.

Policies and Practices for Storing, Retrieving, Accessing, Retaining, and Disposing of Records in the System:

Storage:

Maintained in computer files, computer records, on tapes, and disks.

Retrievability:

Accessed by name, NRC organization, activity code, docket number, Technical Assignment Control System (TACS) number, planned accomplishment number, and/or date range.

Safeguards:

Access to and use of these records are limited to those persons whose official duties require such access. Automated system records are password protected.

Retention and Disposal:

Retained until no longer needed in accordance with GRS 23-8.

System Manager(s) and Address:

Director, Applications Development Division, Office of the Chief Information Officer, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information in this system of records comes from the individual to whom it pertains, individual's supervisors, and NRC management.

Exemptions Claimed for the System:

None.

NRC-31

System Name:

Correspondence and Records, Office of the Secretary—NRC.

System Location:

Primary system—Office of the Secretary, NRC, One White Flint North, 11555 Rockville Pike, Rockville, Maryland.

Duplicate system—Duplicate systems may exist, in whole or in part at the locations listed in Addendum I, Parts 1 and 2.

Categories of Individuals Covered by the System:

The majority of records in this system consist of pre April 2000 internal NRC memoranda between NRC staff and the Chairman, a Commissioner, or the Secretary in the ordinary course of carrying out the official business of the NRC. Records also include correspondence from Members of Congress and their staffs including constituent referrals and White House correspondence referred to the NRC for response as well as correspondence from representatives of industries and other groups affected by NRC regulations, and the general public.

Categories of Records in the System:

These records contain information concerning all subjects which directly or indirectly relate to the fulfillment of NRC's statutory mandate. Records include information dealing with the policy, legal, administrative, and adjudicatory functions of the NRC. Correspondence may identify an individual's social security number, birth date, address, and employment.

Authority for Maintenance of the System:

44 U.S.C. 3101 (1968).

Routine Uses of Records Maintained in the System, Including Categories of Users and Purposes of Such Uses:

Information in these records may be used for any of the routine uses specified in the Prefatory Statement of General Routine Uses.

Policies and Practices for Storing, Retrieving, Accessing, Retaining, and Disposing of Records in the System:

Storage:

The records are maintained in file folders, on computer media, and on microfiche.

Retrievability:

Records may be accessed by subject matter headings, author's last name, addressee's last name, activity number, date of document, and date of receipt of document or file location.

Safeguards:

Access to and use of these records are limited to those persons whose official duties require such access. Classified materials are maintained in approved safes, and unclassified records are maintained in file cabinets and rolling file equipment. Computer files are password protected.

Retention and Disposal:

Paper records are retained permanently in accordance with NRCS 1-2.2.a and the related computer indexes are retained permanently in accordance with NRCS 2-25.4.

System Manager(s) and Address:

Assistant for Correspondence and Records, Office of the Secretary, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.” Some information is classified under Executive Order 12958 and will not be disclosed.

Contesting Record Procedure:

Same as “Notification procedure.”

Record Source Categories:

Information in this system of records comes from communications to the Commission and responses thereto.

Exemptions Claimed for the System:

Pursuant to 5 U.S.C. 552a(k)(1), the Commission has exempted portions of this system of records from 5 U.S.C. 552a(c)(3), (d), (e)(1), (e)(4)(G), (H), and (I), and (f). The exemption rule is contained in 10 CFR 9.95 of the NRC regulations.

NRC-32

System Name:

Office of the Chief Financial Officer Financial Transactions and Debt Collection Management Records—NRC.

System Location:

Primary system—Office of the Chief Financial Officer, NRC, Two White Flint North, 11545 Rockville Pike, Rockville, Maryland.

Duplicate system—Duplicate systems exist, in whole or in part, at the locations listed in Addendum I, Parts 1 and 2. Other NRC systems of records contain payment and/or collection transaction records and background information that may duplicate some of the records in this system. These other systems include, but are not limited to:

NRC-5, Contracts Records Files—NRC;

NRC-7, Telephone Call Detail Records—NRC;

NRC-10, Freedom of Information Act (FOIA) and Privacy Act (PA) Requests—NRC;

NRC-18, Office of the Inspector General (OIG) Investigative Records—NRC;

NRC-19, Official Personnel Training Records Files—NRC;

NRC-20, Official Travel Records—NRC;

NRC-21, Payroll Accounting Records—NRC;

NRC-24, Property and Supply System (PASS)—NRC; and

NRC-41, Tort Claims and Personal Property Claims—NRC.

Categories of Individuals Covered by the System:

Individuals the NRC owes/owed money to or who receive/received a payment from NRC and those who owe/owed money to the United States. Individuals receiving payments include, but are not limited to, current and former employees, contractors, consultants, vendors, and others who travel or perform certain services for NRC. Individuals owing money include, but are not limited to, those who have received goods or services from NRC for which there is a charge or fee (NRC licensees, applicants for NRC licenses, Freedom of Information Act requesters, etc.) and those who have been overpaid and owe NRC a refund (current and former employees, contractors, consultants, vendors, etc.).

Categories of Records in the System:

Information in the system includes, but is not limited to, names, addresses, telephone numbers, Social Security Numbers (SSN), Taxpayer Identification Numbers (TIN), Individual Taxpayer Identification Numbers (ITIN), fee categories, application and license numbers, contract numbers, vendor numbers, amounts owed, background and supporting documentation, correspondence concerning claims and debts, credit reports, and billing and payment histories. The overall agency accounting system contains data and information integrating accounting functions such as general ledger, funds control, travel, accounts receivable, accounts payable, equipment, and appropriation of funds. Although this system of records contains information on corporations and other business entities, only those records that contain information about individuals that is retrieved by the individual's name or other personal identifier are subject to the Privacy Act.

Authority for Maintenance of the System:

5 U.S.C. 552a(b)(12) (1999); 5 U.S.C. 5514 (1996); 15 U.S.C. 1681a(f) (1970); 26 U.S.C. 6103(m)(2) (2002); 31 U.S.C. 37, subchapters I and II; 31 U.S.C. 3701(a)(3) (2001); 31 U.S.C. 3711 (1996); 31 U.S.C. 3716 (1999); 31 U.S.C. 3717 (1996); 31 U.S.C. 3718 (1997); 31 U.S.C. 3720A (1996); 42 U.S.C. 2201 (1992); 42 U.S.C. 5841 (1996); Cash Management Improvement Act Amendments of 1992 (Pub. L. 102-589); Debt Collection Improvement Act of 1996 (Pub. L. 104-134); 31 CFR Chapter IX, Parts 900-904; 10 CFR parts 15 (2002), 16 (1991), 170 (2001), 171 (2001); Executive Order 9397, November 22, 1943; section 201 of Executive Order 11222.

Routine Uses of Records Maintained in the System, Including Categories of Users and the Purposes of Such Uses:

In addition to the disclosures permitted under subsection (b) of the Privacy Act, the NRC may disclose information contained in this system of records without the consent of the subject individual if the disclosure is compatible with the purpose for which the record was collected under the following routine uses:

a. To debt collection contractors (31 U.S.C. 3718) or to other Federal agencies such as the Department of the Treasury (Treasury) for the purpose of collecting and reporting on delinquent debts as authorized by the Debt Collection Act of 1982 or the Debt Collection Improvement Act (DCIA) of 1996;

b. To Treasury; the Defense Manpower Data Center, Department of Defense; the United States Postal Service; government corporations; or any other Federal, State, or local agency to conduct an authorized computer matching program in compliance with the Privacy Act of 1974, as amended, to identify and locate individuals, including Federal employees, who are delinquent in their repayment of certain debts owed to the U.S. Government, including those incurred under certain programs or services administered by the NRC, in order to collect debts under common law or under the provisions of the Debt Collection Act of 1982 or the Debt Collection Improvement Act of 1996 which include by voluntary repayment, administrative or salary offset, and referral to debt collection contractors.

c. To the Department of Justice, United States Attorney, Treasury, or other Federal agencies for further collection action on any delinquent account when circumstances warrant.

d. To credit reporting agencies/credit bureaus for the purpose of either adding to a credit history file or obtaining a credit history file or comparable credit information for use in the administration of debt collection. As authorized by the DCIA, NRC may report current (not delinquent) as well as delinquent consumer and commercial debt to these entities in order to aid in the collection of debts, typically by providing an incentive to the person to repay the debt timely. Revisions to the Federal Claims Collection Standards (FCCS) published in the Federal Register on November 22, 2000 (65 FR 70404), direct agencies to report information on delinquent debts to the Department of Housing and Urban Development's Credit Alert Interactive Voice Response System (CAIVRS). NRC will report this information to CAIVRS if this requirement is contained in the final rule amending the FCCS.

e. To any Federal agency where the debtor is employed or receiving some form of remuneration for the purpose of enabling that agency to collect a debt owed the Federal Government on NRC's behalf by counseling the debtor for voluntary repayment or by initiating administrative or salary offset procedures, or other authorized debt collection methods under the provisions of the Debt Collection Act of 1982 or the Debt Collection Improvement Act of 1996. Under the DCIA, NRC may garnish non-Federal wages of certain delinquent debtors so long as required due process procedures are followed. In these instances, NRC's notice to the employer will disclose only the information that may be necessary for the employer to comply with the withholding order.

f. To the Internal Revenue Service (IRS) by computer matching to obtain the mailing address of a taxpayer for the purpose of locating such taxpayer to collect or to compromise a Federal claim by NRC against the taxpayer under 26 U.S.C. 6103(m)(2) and under 31 U.S.C. 3711, 3717, and 3718 or common law. Redisclosure of a mailing address obtained from the IRS may be made only for debt collection purposes, including to a debt collection agent to facilitate the collection or compromise of a Federal claim under the Debt Collection Act of 1982 or the Debt Collection Improvement Act of 1996, except that redisclosure of a mailing address to a reporting agency is for the limited purpose of obtaining a credit report on the particular taxpayer. Any mailing address information obtained from the IRS will not be used or shared for any other NRC purpose or disclosed by NRC to another Federal, State, or local agency which seeks to locate the same taxpayer for its own debt collection purposes.

g. To refer legally enforceable debts to the IRS or to Treasury's Debt Management Services to be offset against the debtor's tax refunds under the Federal Tax Refund Offset Program.

h. To prepare W-2, 1099, or other forms or electronic submittals, to forward to the IRS and applicable State and local governments for tax reporting purposes. Under the provisions of the DCIA, NRC is permitted to provide Treasury with Form 1099-C information on discharged debts so that Treasury may file the form on NRC's behalf with the IRS. W-2 and 1099 Forms contain information on items to be considered as income to an individual, including certain travel related payments to employees, payments made to persons not treated as employees (e.g., fees to consultants and experts), and amounts written-off as legally or administratively uncollectible, in whole or in part.

i. To banks enrolled in the Treasury Credit Card Network to collect a payment or debt when the individual has given his or her credit card number for this purpose.

j. To another Federal agency that has asked the NRC to effect an administrative offset under common law or under 31 U.S.C. 3716 to help collect a debt owed the United States. Disclosure under this routine use is limited to name, address, SSN, TIN, ITIN, and other information necessary to identify the individual; information about the money payable to or held for the individual; and other information concerning the administrative offset.

k. To Treasury or other Federal agencies with whom NRC has entered into an agreement establishing the terms and conditions for debt collection cross servicing operations on behalf of the NRC to satisfy, in whole or in part, debts owed to the U.S. Government. Cross servicing includes the possible use of all debt collection tools such as administrative offset, tax refund offset, referral to debt collection contractors, and referral to the Department of Justice. The DCIA requires agencies to transfer to Treasury or Treasury-designated Debt Collection Centers for cross servicing certain nontax debt over 180 days delinquent. Treasury has the authority to act in the Federal Government's best interest to service, collect, compromise, suspend, or terminate collection action under existing laws under which the debts arise.

l. Information on past due, legally enforceable nontax debts more than 180 days delinquent will be referred to Treasury for the purpose of locating the debtor and/or effecting administrative offset against monies payable by the government to the debtor, or held by the government for the debtor under the DCIA's mandatory, government-wide Treasury Offset Program (TOP). Under TOP, Treasury maintains a database of all qualified delinquent nontax debts, and works with agencies to match by computer their payments against the delinquent debtor database in order to divert payments to pay the delinquent debt. Treasury has the authority to waive the computer matching requirement for NRC and other agencies upon written certification that administrative due process notice requirements have been complied with.

m. For debt collection purposes, NRC may publish or otherwise publicly disseminate information regarding the identity of delinquent nontax debtors and the existence of the nontax debts under the provisions of the Debt Collection Improvement Act of 1996.

n. To the Department of Labor (DOL) and the Department of Health and Human Services (HHS) to conduct an authorized computer matching program in compliance with the Privacy Act of 1974, as amended, to match NRC's debtor records with records of DOL and HHS to obtain names, name controls, names of employers, addresses, dates of birth, and TINs. The DCIA requires all Federal agencies to obtain taxpayer identification numbers from each individual or entity doing business with the agency, including applicants and recipients of licenses, grants, or benefit payments; contractors; and entities and individuals owing fines, fees, or penalties to the agency. NRC will use TINs in collecting and reporting any delinquent amounts resulting from the activity and in making payments.

o. If NRC decides or is required to sell a delinquent nontax debt under 31 U.S.C. 3711(i), information in this system of records may be disclosed to purchasers, potential purchasers, and contractors engaged to assist in the sale or to obtain information necessary for potential purchasers to formulate bids and information necessary for purchasers to pursue collection remedies.

p. If NRC has current and delinquent collateralized nontax debts under 31 U.S.C. 3711(i)(4)(A), certain information in this system of records on its portfolio of loans, notes and guarantees, and other collateralized debts will be reported to Congress based on standards developed by the Office of Management and Budget, in consultation with Treasury.

q. To Treasury in order to request a payment to individuals owed money by the NRC.

r. To the National Archives and Records Administration or to the General Services Administration for records management inspections conducted under 44 U.S.C. 2904 and 2906.

s. For any of the routine uses specified in the Prefatory Statement of General Routine Uses.

DISCLOSURES TO CONSUMER REPORTING AGENCIES:

Disclosures pursuant to 5 U.S.C. 552a(b)(12):

Disclosures of information to a consumer reporting agency are not considered a routine use of records. Disclosures may be made from this system to “consumer reporting agencies” as defined in the Fair Credit Reporting Act (15 U.S.C. 1681a(f) (1970)) or the Federal Claims Collection Act of 1966, as amended (31 U.S.C. 3701(a)(3) (1996)).

Policies and Practices for Storing, Retrieving, Accessing, Retaining, and Disposing of Records in the System:

Storage:

Information in this system is stored on paper and microfiche, and in computer media.

Retrievability:

Information is retrieved a number of ways, including by name, SSN, TIN, license or application number, contract or purchase order number, invoice number, voucher number, and vendor code.

Safeguards:

Records in the primary system are maintained in a building where access is controlled by a security guard force. Records are kept in lockable file rooms or at user's workstations in an area where access is controlled by keycard and is limited to NRC and contractor personnel who need the records to perform their official duties. The records are under visual control during duty hours. Access to automated data requires use of proper password and user identification codes by NRC or contractor personnel.

Retention and Disposal:

Paper records are destroyed when six years and three months old in accordance with GRS 6-1.a except that administrative claims files, for which collection action is terminated without extension, are destroyed when ten years and three months old in accordance with GRS 6-10.b. Computer files are deleted after the expiration of the retention period authorized in accordance with GRS for the disposable hard copy file or when no longer needed, whichever is later.

System Manager(s) and Address:

Director, Division of Accounting and Finance, Office of the Chief Financial Officer, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Records Access Procedure:

Same as “Notification procedure.”

Contesting Record Procedure:

Same as “Notification procedure.”

Record Source Categories:

Record source categories include, but are not limited to, individuals covered by the system, their attorneys, or other representatives; NRC; collection agencies or contractors; employing agencies of debtors; and Federal, State and local agencies.

Exemptions Claimed for the System:

None.

NRC-33

System Name:

Special Inquiry File—NRC.

System Location:

Primary system—Special Inquiry Group, NRC, One White Flint North, 11555 Rockville Pike, Rockville, Maryland.

Duplicate system—Duplicate systems exist, in whole or in part, at the locations listed in Addendum I, Parts 1 and 2.

Categories of Individuals Covered by the System:

Individuals possessing information regarding or having knowledge of matters of potential or actual concern to the Commission in connection with the investigation of an accident or incident at a nuclear power plant or other nuclear facility, or an incident involving nuclear materials or an allegation regarding the public health and safety related to the NRC's mission responsibilities.

Categories of Records in the System:

The system consists of an alphabetical index file bearing individual names. The index provides access to associated records which are arranged by subject matter, title, or identifying number(s) and/or letter(s). The system incorporates the records of all Commission correspondence, memoranda, audit reports and data, interviews, questionnaires, legal papers, exhibits, investigative reports and data, and other material relating to or developed as a result of the inquiry, study, or investigation of an accident or incident.

Authority for Maintenance of the System:

42 U.S.C. 2201(c), (i) and (o) (1992).

Routine Uses of Records Maintained in the System, Including Categories of Users and the Purposes of Such Uses:

Information in these records may be used:

a. To provide information relating to an item which has been referred to the Commission or Special Inquiry Group for investigation by an agency, group, organization, or individual and may be disclosed as a routine use to notify the referring agency, group, organization, or individual of the status of the matter or of any decision or determination that has been made;

b. To disclose a record as a routine use to a foreign country under an international treaty or convention entered into and ratified by the United States;

c. To provide records relating to the integrity and efficiency of the Commission's operations and management and may be disseminated outside the Commission as part of the Commission's responsibility to inform the Congress and the public about Commission operations; and

d. For any of the routine uses specified in paragraph numbers 1, 2, 4, 5, and 6 of the Prefatory Statement of General Routine Uses.

Policies and Practices for Storing, Retrieving, Accessing, Retaining, and Disposing of Records in the System:

Storage:

Maintained on microfiche, disks, tapes, and paper in file folders. Documents are maintained in secured vault facilities.

Retrievability:

Accessed by name (author or recipient), corporate source, title of document, subject matter, or other identifying document or control number.

Safeguards:

These records are located in locking metal filing cabinets or safes in a secured facility and are available only to authorized personnel whose duties require access.

Retention and Disposal:

Paper records relating to subject files are retained permanently in accordance with NRCS 1-2.2.a. Paper records relating to case files are retained permanently in accordance with NRCS 2-20.9.a. Alphabetical indexes are retained permanently in accordance with NRCS 1-2.2.a. Microfiche records are retained permanently in accordance with NRCS 2-20.9.a.

System Manager(s) and Address:

Records Manager, Special Inquiry Group, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.” Information classified under Executive Order 12958 will not be disclosed. Information received in confidence will not be disclosed to the extent that disclosure would reveal a confidential source.

Contesting Record Procedure:

Same as “Notification procedure.”

Record Source Categories:

The information in this system of records is obtained from sources including, but not limited to, NRC officials and employees; Federal, State, local, and foreign agencies; NRC licensees; nuclear reactor vendors and architectural engineering firms; other organizations or persons knowledgeable about the incident or activity under investigation; and relevant NRC records.

Exemptions Claimed for the System:

Pursuant to 5 U.S.C. 552a(k)(1), (k)(2), and (k)(5), the Commission has exempted portions of this system of records from 5 U.S.C. 552a(c)(3), (d), (e)(1), (e)(4)(G), (H), and (I), and (f). The exemption rule is contained in 10 CFR 9.95 of the NRC regulations.

NRC-34 [Revoked]

NRC-35

System Name:

Drug Testing Program Records—NRC.

System Location:

Primary system—Division of Facilities and Security, Office of Administration, Two White Flint North, 11545 Rockville Pike, Rockville, Maryland.

Duplicate system—Duplicate systems may exist, in whole or in part, at the locations listed in Addendum I, Parts 1 and 2; and at contractor testing laboratories at collection/evaluation facilities.

Categories of Individuals Covered by the System:

Persons including NRC employees, applicants, consultants, licensees, and contractors.

Categories of Records in the System:

These records contain information regarding the drug testing program; requests for and results of initial, confirmatory and follow-up testing, if appropriate; additional information supplied by NRC employees, employment applicants, consultants, licensees, or contractors in challenge to positive test results; and written statements or medical evaluations of attending physicians and/or information regarding prescription or nonprescription drugs.

Authority for Maintenance of the System:

5 U.S.C 7301 (note) (1998); 42 U.S.C. 290dd-2 (1998); Executive Order 12564, September 15, 1986; Pub. L. 100-71, Title V Sec. 503 (July 11, 1987); Pub. L. 100-440, Title VI Sec. 628 (September 22, 1988); Executive Order 9397, November 22, 1943.

Routine Uses of Records Maintained in the System, Including Categories of Users and the Purposes of Such Uses:

Information in these records may be used by the Division of Facilities and Security and NRC management:

a. To identify substance abusers within the agency;

b. To initiate counseling and/or rehabilitation programs;

c. To take personnel actions;

d. To take personnel security actions; and

e. For statistical purposes.

Policies and Practices for Storing, Retrieving, Accessing, Retaining, and Disposing of Records in the System:

Storage:

Records are maintained in file folders, on index cards, and on computer media. Specimens are maintained in appropriate environments.

Retrievability:

Records are indexed and accessed by name, social security number, testing position number, specimen number, drug testing laboratory accession number, or a combination thereof.

Safeguards:

Access to and use of these records is limited to those persons whose official duties require such access, with records maintained and used with the highest regard for personal privacy. Records in the Division of Facilities and Security are stored in an approved security container under the immediate control of the Director, Division of Facilities and Security, or designee. Records at other NRC locations and in laboratory/collection/evaluation facilities will be stored under appropriate security measures so that access is limited and controlled.

Retention and Disposal:

Employee acknowledgment of notice forms are destroyed when employee separates from testing designated position in accordance with GRS 1-36.b. Selection and scheduling records, chain of custody records, and test results are destroyed when three years old in accordance with GRS 1-36.c, except for records used in disciplinary actions which are destroyed four years after the case is closed. Collection and handling record books are destroyed three years after date of last entry in accordance with GRS 1-36.d. Electronic records of the Employee Drug Testing System are deleted when no longer needed in accordance with GRS 20-3.b. Index cards are destroyed with related records or sooner if no longer needed.

System Manager(s) and Address:

Director, Division of Facilities and Security, Office of Administration, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

NRC employees, employment applicants, consultants, and contractors who have been identified for drug testing who have been tested; physicians making statements regarding medical evaluations and/or authorized prescriptions for drugs; NRC contractors for processing including, but not limited to, specimen collection, laboratories for analysis, and medical evaluations; and NRC staff administering the drug testing program to ensure the achievement of a drug-free workplace.

Exemptions Claimed for the System:

Pursuant to 5 U.S.C. 552a(k)(5), the Commission has exempted portions of this system of records from 5 U.S.C. 552a(c)(3), (d), (e)(1), (e)(4)(G), (H), and (I), and (f). The exemption rule is contained in 10 CFR 9.95 of the NRC regulations.

NRC-36

System Name:

Employee Locator Records Files—NRC.

System Location:

Primary system—Part 1: Office of Human Resources, NRC, Two White Flint North, 11545 Rockville Pike, Rockville, Maryland.

Part 2: Office of the Chief Information Officer, NRC, Two White Flint North, 11545 Rockville Pike, Rockville, Maryland.

Part 3: Office of Administration, NRC, One White Flint North, 11555 Rockville Pike, Rockville, Maryland.

Part 4: Office of the Chief Financial Officer, NRC, Two White Flint North, 11545 Rockville Pike, Rockville, Maryland.

Duplicate system—A duplicate system exists, in whole or in part, in the Office of Nuclear Security and Incident Response, NRC, Two White Flint North, 11545 Rockville Pike, Rockville, Maryland.

Duplicate system— Duplicate systems may exist, in whole or in part, at the locations listed in Addendum I, Parts 1 and 2.

Categories of Individuals Covered by the System:

NRC employees, contractors, and consultants.

Categories of Records in the System:

These records include, but are not limited to, an individual's name, address (home and business), telephone number (home, business, and pager), social security number, organization, persons to be notified in case of emergency, and other related records.

Authority for Maintenance of the System:

44 U.S.C. 3101 (1968); Executive Order 9397, November 22, 1943.

Routine Uses of Records Maintained in the System, Including Categories of Users and the Purposes of Such Uses:

Information in these records may be used for:

a. Notification (of individual identified by employee) in case of an emergency;

b. Notification of employee regarding matters of official business;

c. Verification of accuracy of and updates of payroll/personnel system files on employee home address and zip code;

d. Conducting statistical studies, and

e. The routine use specified in paragraph number 6 of the Prefatory Statement of General Routine Uses.

Policies and Practices for Storing, Retrieving, Accessing, Retaining, and Disposing of Records in the System:

Storage:

Maintained within computerized systems and on hardcopy listings.

Retrievability:

Indexed by name.

Safeguards:

Electronic records are password protected. Paper copies of records are maintained in locked files. Access to and use of these records are limited to those persons whose official duties require such access.

Retention and Disposal:

Records are destroyed when 6 months by shredding in accordance with GRS 1-17.c.

System Manager(s) and Address:

Part 1: Director, Office of Human Resources; Part 2: Chief Information Officer; Part 3: Director, Office of Administration; Part 4: Chief Financial Officer, U. S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Individual on whom the record is maintained, NRC Form 15, “Employee Locator Notification”, general personnel records, and other related records.

Exemptions Claimed for the System:

None.

NRC-37

System Name:

Information Security Files and Associated Records—NRC.

System Location:

Primary system—Division of Nuclear Security, Office of Nuclear Security and Incident Response, NRC, One White Flint North, 11555 Rockville Pike, Rockville, Maryland.

Duplicate system—Duplicate systems exist, in whole or in part, at the locations listed in Addendum I, Parts 1 and 2.

Categories of Individuals Covered by the System:

Persons including present or former NRC employees, contractors, consultants, licensees, and other cleared persons.

Categories of Records in the System:

These records include information regarding:

a. Personnel who are authorized access to specified levels, categories and types of information, the approving authority, and related documents; and

b. Names of individuals who classify and/or declassify documents (e.g., for the protection of information relating to the U.S. national defense and foreign relations) as well as information identifying the document.

Authority for Maintenance of the System:

42 U.S.C 2165 (1999) and 2201(i) (1992); Executive Order 12958, April 17, 1995.

Routine Uses of Records Maintained in the System, Including Categories of Users and the Purposes of Such Uses:

Information in this system may be used for any of the routine uses specified in the Prefatory Statement of General Routine Uses.

Policies and Practices for Storing, Retrieving, Accessing, Retaining, and Disposing of Records in the System:

Storage:

Maintained primarily in file folders, on index cards, and on computer media.

Retrievability:

Indexed and accessed by name and/or assigned number.

Safeguards:

Maintained in locked buildings, containers, or security areas under guard and/or alarm protection, as appropriate. Records are processed only on systems approved for processing classified information or accessible through password protected systems for unclassified information. The classified systems are stand alone systems located within secure facilities or with removable hard drives that are either stored in locked security containers or in alarmed vaults cleared for open storage of TOP SECRET information.

Retention and Disposal:

a. Classified documents, administrative correspondence, document receipts, destruction certificates, classified document inventories, and related records—retained 2 years, then destroyed by shredding in accordance with GRS 18-1;

b. Top Secret Accounting and Control files: Registers—retained 5 years after documents shown on form are downgraded, transferred, or destroyed by shredding; Accompanying forms—retained until related document is downgraded, transferred, or destroyed by shredding in accordance with GRS 18-5.a and 18-5.b; and

c. Automated records are updated monthly and quarterly, and are maintained until no longer needed.

System Manager(s) and Address:

Director, Division of Nuclear Security, Office of Nuclear Security and Incident Response, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.” Some information is classified under Executive Order 12958 and will not be disclosed. Other information has been received in confidence and will not be disclosed to the extent that disclosure would reveal a confidential source.

Contesting Record Procedure:

Same as “Notification procedure.”

Record Source Categories:

Persons, including NRC employees, contractors, consultants, and licensees, as well as information furnished by other Government agencies or their contractors.

Exemptions Claimed for the System:

Pursuant to 5 U.S.C. 552a(k)(1) and (k)(5), the Commission has exempted portions of this system of records from 5 U.S.C. 552a(c)(3), (d), (e)(1), (e)(4)(G), (H), and (I), and (f). The exemption rule is contained in 10 CFR 9.95 of NRC regulations.

NRC-38

System Name:

Mailing Lists—NRC.

System Location:

Primary system—Reproduction and Distribution Services Branch, Web, Publishing, and Distribution Services Division, Office of the Chief Information Officer, NRC, 11555 Rockville Pike, Rockville, Maryland.

Duplicate system—Duplicate systems exist in whole or in part, at the locations listed in Addendum I, Parts 1 and 2.

Categories of Individuals Covered by the System:

Individuals, including NRC staff, with an interest in receiving information from the NRC.

Categories of Records in the System:

Mailing lists include primarily the individual's name and address. Some lists also include title, occupation, and institutional affiliation.

Authority for Maintenance of the System:

44 U.S.C. 3101 (1968).

Routine Uses of Records Maintained in the System, Including Categories of Users and the Purposes of Such Uses:

Information in these records may be used:

a. For distribution of documents to persons and organizations listed on the mailing list; and

b. For the routine use specified in paragraph number 6 of the Prefatory Statement of General Routine Uses.

Policies and Practices for Storing, Retrieving, Accessing, Retaining, and Disposing of Records in the System:

Storage:

Records are maintained on computer media and paper.

Retrievability:

Records are accessed by company name, individual name, and file code identification number.

Safeguards:

Access to and use of these records are limited to those persons whose official duties require such access. Automated records are password protected.

Retention and Disposal:

Documents requesting changes are destroyed through the regular trash disposal system after appropriate revision of the mailing list or after 3 months in accordance with GRS 13.4.a, whichever is sooner; lists are retained until cancelled or revised, then destroyed through the regular trash disposal system in accordance with GRS 13.4.b. Computer files are deleted after cancelled or revised or when no longer needed, whichever is later.

System Manager(s) and Address:

Chief, Reproduction and Distribution Services Branch, Web, Publishing and Distribution Services Division, Office of the Chief Information Officer, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

NRC staff, NRC licensees, and individuals expressing an interest in NRC activities and publications.

Exemptions Claimed for the System:

None.

NRC-39

System Name:

Personnel Security Files and Associated Records—NRC.

System Location:

Primary system—Division of Facilities and Security, Office of Administration, NRC, Two White Flint North, 11545 Rockville Pike, Rockville, Maryland.

Duplicate system—Duplicate systems may exist, in whole or in part, at the locations listed in Addendum I, Parts 1 and 2; and the Department of Energy, Germantown, Maryland.

Categories of Individuals Covered by the System:

Persons including NRC employees, employment applicants, consultants, contractors, and licensees; other Government agency personnel, other persons who have been considered for a personnel clearance, special nuclear material access authorization, unescorted access to NRC buildings or nuclear power plants, NRC building access, access to Federal automated information systems or data, or participants in the criminal history program; aliens who visit NRC's facilities; and actual or suspected violators of laws administered by NRC.

Categories of Records in the System:

These records contain information about individuals, which include, but are not limited to, their name(s), address, date and place of birth, social security number, identifying information, citizenship, residence history, employment history, military history, financial history, foreign travel, foreign contacts, education, spouse/cohabitant and relatives, personal references, organizational membership, medical, fingerprint cards, criminal record, and security clearance history. These records also contain copies of personnel security investigative reports from other Federal agencies, summaries of investigative reports, results of Federal agency indices checks, records necessary for participation in the criminal history program, reports of personnel security interviews, clearance actions information (e.g., grants and terminations), access approval/disapproval actions related to NRC building access or unescorted access to nuclear plants, or access to Federal automated information systems or data, violations of laws, reports of security infraction, and other related personnel security processing documents.

Authority for Maintenance of the System:

40 U.S.C. 318 (1988); 42 U.S.C 2165 (1999) and 2201(i) (1992); Executive Order (E.O.) 9397, November 22, 1943; E.O. 10450, April 27, 1953; E.O. 12958, April 17, 1995; E.O. 12968, August 2, 1995; E.O. 10865, February 20, 1960; 10 CFR part 11 (2000); Pub. L. 99-399 (100 Stat. 876) August 27, 1986; OMB Circular No. A-130, November 30, 2000; 5 CFR parts 731 and 732 and authorities cited therein; Pub. L. 99-500 (100 Stat. 1783-335) October 18, 1986.

Routine Uses of Records Maintained in the System, Including Categories of Users and the Purposes of Such Uses:

Information in these records may be used by the Division of Facilities and Security and on a need-to-know basis by appropriate NRC officials, Hearing Examiners, Personnel Security Review Panel members, Office of Personnel Management, Central Intelligence Agency, and other Federal agencies:

a. To determine clearance or access authorization eligibility;

b. To determine eligibility for access to NRC buildings or access to Federal automated information systems or data;

c. To certify clearance or access authorization;

d. To maintain the NRC personnel security program;

e. To provide licensees criminal history information needed for their unescorted access or access to safeguard information determinations; and

f. For any of the routine uses specified in the Prefatory Statement of General Routine Uses.

Policies and Practices for Storing, Retrieving, Accessing, Retaining, and Disposing of Records in the System:

Storage:

Maintained primarily in file folders, on tape, computer media, and microfiche.

Retrievability:

Indexed and accessed by name, social security number, docket number, or a combination thereof.

Safeguards:

File folders and computer printouts are maintained in security or controlled areas under guard and/or alarm protection, as appropriate. Automated records are password protected.

Retention and Disposal:

a. Personnel security clearance/access authorization files—destroy case files upon notification of death or 5 years from date of termination of access authorization or final administrative action in accordance with GRS 18-22.a;

b. Request for Visit or Access Approval—maximum security areas retained 5 years after final entry or after date of document, as appropriate, in accordance with GRS 18-17.a; Other areas: Retained 2 years after final entry or after date of document, then destroyed by approved method of destruction in accordance with GRS 18-17.b;

c. Other security clearance/access authorization administration files—retained 2 years after final entry or after date of document, then destroyed by approved method of destruction in accordance with GRS 18-8; and

d. Criminal history record computer files are deleted when no longer needed.

System Manager(s) and Address:

Director, Division of Facilities and Security, Office of Administration, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.” Some information is classified under Executive Order 12958 and will not be disclosed. Other information has been received in confidence and will not be disclosed to the extent the disclosure would reveal a confidential source.

Contesting Record Procedure:

Same as “Notification procedure.”

Record Source Categories:

Persons including NRC applicants, employees, contractors, consultants, licensees, visitors and others, as well as information furnished by other Government agencies or their contractors.

Exemptions Claimed for the System:

Pursuant to 5 U.S.C. 552a(k)(1), (k)(2), and (k)(5), the Commission has exempted portions of this system of records from 5 U.S.C. 552a(c)(3), (d), (e)(1), (e)(4)(G), (H), and (I), and (f). The exemption rule is contained in 10 CFR 9.95 of the NRC regulations.

NRC-40

System Name:

Facility Security Access Control Records—NRC.

System Location:

Primary system—Division of Facilities and Security, Office of Administration, NRC, One White Flint North, 11555 Rockville Pike, Rockville, Maryland.

Duplicate system—Duplicate systems may exist, in whole or in part, at the locations listed in Addendum I, Part 2.

Categories of Individuals Covered by the System:

Persons including current and former NRC employees, consultants, contractors, other Government agency personnel, and approved visitors.

Categories of Records in the System:

These records include information regarding: (1) NRC personal identification badges issued for continued access to NRC-controlled space; and (2) records regarding visitors to NRC. These records include, but are not limited to, an individual's name, social security number, electronic image, badge number, citizenship, employer, purpose of visit, person visited, date and time of visit, and other information contained on government issued credentials.

Authority for Maintenance of the System:

42 U.S.C. 2165 (1999) and 2201 (i), (k) and (p) (1992); 5 CFR part 2634; Executive Order (E.O.) 9397, November 22, 1943; E.O. 12958, April 20, 1995.

Routine Uses of Records Maintained in the System, Including Categories of Users and the Purposes of Such Uses:

Information in these records may be used to control access to NRC classified information and to NRC spaces by human or electronic means.

Information (identification badge) may also be used for tracking applications within the NRC for other than security access purposes.

The electronic image used for the NRC employee personal identification badge may be used for other than security purposes only with the written consent of the subject individual.

In addition to the disclosures permitted under subsection (b) of the Privacy Act, NRC may disclose information and digital image contained in a record in this system of records without the consent of the subject individual if the disclosure is compatible with the purpose for which the record was collected under any of the routine uses specified in the Prefatory Statement of General Routine Uses.

Policies and Practices for Storing, Retrieving, Accessing, Retaining, and Disposing of Records in the System:

Storage:

Records are maintained in paper forms in logs and files, and on computer media.

Retrievability:

Information is indexed and accessed by individual's name, social security number, identification badge number, employer's name, date of visit, or sponsor's name.

Safeguards:

All records are maintained in NRC-controlled space that is secured after normal duty hours or in security areas under guard presence. Automated records are protected by password.

Retention and Disposal:

a. Records and forms related to NRC identification badges are retained in files and destroyed when superseded or obsolete in accordance with GRS 18-23.

b. Manual visitor logs are retained in cabinets and destroyed 2 years after date of entry in accordance with GRS 18-17.b.

c. The automated access control system reflects access to controlled areas and employee/contractor/visitor identification information. These records are disposed of after the retention period for those records identified in a. and b., or when no longer needed, whichever is later.

System Manager(s) and Address:

Director, Division of Facilities and Security, Office of Administration, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Persons including NRC employees, contractors, consultants, employees of other Government agencies, and visitors.

Exemptions Claimed for the System:

None.

NRC-41

System Name:

Tort Claims and Personal Property Claims—NRC.

System Location:

Primary system—Office of the General Counsel, NRC, One White Flint North, 11555 Rockville Pike, Rockville, Maryland.

Duplicate system—Duplicate systems exist, in whole or in part, in the Office of the Chief Financial Officer (OCFO), NRC, Two White Flint North, 11545 Rockville Pike, Rockville, Maryland, and at the locations listed in Addendum I, Parts 1 and 2. Other NRC systems of records, including but not limited to, NRC-18, “Office of the Inspector General (OIG) Investigative Records—NRC,” and NRC-32, “Office of the Chief Financial Officer Financial Transactions and Debt Collection Management Records—NRC,” may contain some of the information in this system of records.

Categories of Individuals Covered by the System:

Individuals who have filed claims with NRC under the Federal Tort Claims Act or the Military Personnel and Civilian Employees' Claims Act and individuals who have matters pending before the NRC that may result in a claim being filed.

Categories of Records in the System:

This system contains information relating to loss or damage to property and/or personal injury or death in which the U.S. Government may be liable. This information includes, but is not limited to, the individual's name, home address and phone number, work address and phone number, claim forms and supporting documentation, police reports, witness statements, medical records, insurance information, investigative reports, repair/replacement receipts and estimates, litigation documents, court decisions, and other information necessary for the evaluation and settlement of claims and pre-claims.

Authority for Maintenance of the System:

Federal Tort Claims Act, 28 U.S.C. 2671 et seq. (2000); The Military Personnel and Civilian Employees' Claims Act of 1964, as amended, 31 U.S.C. 3721 (1996).

Routine Uses of Records Maintained in the System, Including Categories of Users and the Purposes of Such Uses:

In addition to the disclosures permitted under subsection (b) of the Privacy Act, NRC may disclose information contained in a record in this system of records without the consent of the subject individual if the disclosure is compatible with the purpose for which the record was collected under the following routine uses:

a. To third parties, including claimants' attorneys, insurance companies, witnesses, potential witnesses, local police authorities where an accident occurs, and others who may have knowledge of the matter to the extent necessary to obtain information that will be used to evaluate, settle, refer, pay, and/or adjudicate claims.

b. To the Department of Justice (DOJ) when the matter comes within their jurisdiction, such as to coordinate litigation or when NRC's authority is limited and DOJ advice or approval is required before NRC can award, adjust, compromise, or settle certain claims.

c. To the appropriate Federal agency or agencies when a claim has been incorrectly filed with NRC or when more than one agency is involved and NRC makes agreements with the other agencies as to which one will investigate the claim.

d. The Department of the Treasury to request payment of an award, compromise, or settlement of a claim.

e. Information contained in litigation records is public to the extent that the documents have been filed in a court or public administrative proceeding, unless the court or other adjudicative body has ordered otherwise. This public information, including information concerning the nature, status, and disposition of the proceeding, may be disclosed to any person, unless it is determined that release of specific information in the context of a particular case would constitute an unwarranted invasion of personal privacy.

f. To the National Archives and Records Administration or to the General Services Administration for records management inspections conducted under 44 U.S.C. 2904 and 2906.

g. For any of the routine uses specified in the Prefatory Statement of General Routine Uses.

Disclosure to Consumer Reporting Agencies:

Disclosure pursuant to 5 U.S.C. 552a(b)(12):

Disclosure of information to a consumer reporting agency is not considered a routine use of records. Disclosures may be made from this system of records to “consumer reporting agencies” as defined in the Fair Credit Reporting Act (15 U.S.C. 1681a(f) (1970)) or the Federal Claims Collection Act of 1966, as amended (31 U.S.C. 3701(a)(3) (1996)).

Policies and Practices for Storing, Retrieving, Accessing, Retaining, and Disposing of Records in the System:

Storage:

Information in this system of records is stored on paper, in log books, and on computer media.

Retrievability:

Information is indexed and accessed by the claimant's name and/or claim number.

Safeguards:

The paper records and log books are stored in locked file cabinets or locked file rooms and access is restricted to those agency personnel whose official duties and responsibilities require access. Automated records are protected by password.

Retention and Disposal:

a. Tort claims and employee claims are destroyed six years and three months after payment or disallowance in accordance with GRS 6-10.a.

b. Claims affected by a court order or subject to litigation are destroyed after the related action is concluded, or when six years and three months old, whichever is later, in accordance with GRS 10-6.c.

c. Log books are destroyed or deleted when no longer needed in accordance with GRS 23-8.

d. Copies of memoranda contained on electronic media are deleted when no longer needed in accordance with GRS 20-13.

e. Copies of tort claims and personal property claims that become part of NRC's Litigation Case File are retained by the Government permanently in accordance with NRCS 2-13.4.

System Manager(s) and Address:

Assistant General Counsel for Administration, Office of the General Counsel, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information is obtained from a number of sources, including but not limited to, claimants, NRC employees involved in the incident, witnesses or others having knowledge of the matter, police reports, medical reports, investigative reports, insurance companies, and attorneys.

Exemptions Claimed for the System:

None.

NRC-42

System Name:

Skills Assessment and Employee Profile Records—NRC.

System Location:

Primary system—Office of Human Resources, NRC, Two White Flint North, 11545 Rockville Pike, Rockville, Maryland.

Duplicate system—Duplicate systems may exist, in whole or in part, at the locations listed in Addendum I, Parts 1 and 2. This system of records may contain some of the information contained in other system of records. These other systems may include, but are not limited to:

NRC-11, General Personnel Records (Official Personnel Folder and Related Records)—NRC; NRC-19, Official Personnel Training Records Files—NRC;

Categories of Individuals Covered:

Current, prospective, and former NRC employees, experts, consultants, contractors.

Categories of Records in the System:

Specific information maintained on individuals includes individual skills assessments that identify the knowledge and skills possessed by the individual and the level of skills possessed, and may include a skills profile containing, but not limited to, their name; service computation date; series and grade; education; training; work and skills experience; special qualifications; licenses and certificates held; career interests, goals and objectives; and availability for travel or geographic relocation.

Authority for Maintenance of the System:

5 U.S.C. 3396 (1991); 5 U.S.C. 4103 (1994); 42 U.S.C. 2201 (1992); Executive Order (E.O.) 9397, November 22, 1943; E.O. 11348, February 20, 1967, as amended by E.O. 12107, December 28, 1978; Pub. L. 104-106, National Defense Authorization Act for Fiscal Year 1996, sec. 5125, Agency Chief Information Officer, February 10, 1996.

Routine Uses of Records Maintained in the System, Including Categories of Users and the Purposes of Such Uses:

The primary use of the records will be to assess the knowledge and skills needed to perform the functions assigned to individuals and their organizations.

Information in the system may be used by the NRC to assess the skills of the staff to develop an organizational training plan/program; to prepare individual training plans; to develop recruitment plans; and to assign personnel. Other offices may maintain similar kinds of records relative to their specific duties, functions, and responsibilities.

In addition to the disclosures permitted under subsection (b) of the Privacy Act, which includes disclosure to other NRC employees who have a need for the information in the performance of their duties, NRC may disclose information contained in this system of records without the consent of the subject individual if the disclosure is compatible with the purpose for which the information was collected under the following routine uses:

a. To employees and contractors of other Federal, State, local, and foreign agencies or to private entities in connection with joint projects, working groups, or other cooperative efforts in which the NRC is participating.

b. To the National Archives and Records Administration or to the General Services Administration for records management inspections conducted under 44 U.S.C. 2904 and 2906.

c. For any of the routine uses specified in the Prefatory Statement of General Routine Uses.

Policies and Practices for Storing, Retrieving, Accessing, Retaining, and Disposition of Records in the System:

Storage:

Information is maintained in computerized form (Strategic Workforce Planning System) and in paper copy. Computerized form includes information stored in memory, on disk, and on computer printouts.

Retrievability:

Information may be retrieved in a number of ways, including but not limited to the individual's name, office, or skill level; various skills, knowledge, training, education, or work experience; or subject or key words developed for the system.

Safeguards:

Records are maintained in buildings where access is controlled by a security guard force. Records are maintained in areas where access is controlled by keycard and is limited to NRC and contractor personnel and to others who need the records to perform their official duties. Access to computerized records requires use of proper password and user identification codes.

Retention and Disposal:

System input records are destroyed after the information is converted to electronic medium and verified in accordance with GRS 20-2.a and b. System data maintained electronically are currently unscheduled and must be retained until a records disposition schedule for this information is approved by the National Archives and Records Administration. Hard copy records documenting skills requirements, assessments, strategies, and plans for meeting the requirements are currently unscheduled and must be retained until a records disposition schedule for this information is approved by the National Archives and Records Administration.

System Manager(s) and Address:

Chief, Workforce Planning and Information Management, Office of Human Resources, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure”.

Contesting Record Procedure:

Same as “Notification procedure”.

Record Source Categories:

Information in this system of records is obtained from a number of sources, including but not limited to the individual to whom it pertains, information derived from that supplied by the individual, other systems of records, supervisors and other NRC officials, contractors, and other agencies or entities.

Exemptions Claimed for the System:

None.

NRC-43

System Name:

Employee Health Center Records—NRC.

System Location:

Primary system—NRC Employee Health Center, One White Flint North, 11555 Rockville Pike, Rockville, Maryland.

Duplicate system—Duplicate systems may exist, in whole or in part, at the NRC's regional and other offices listed in Addendum I, Parts 1 and 2, and/or at any other health care facilities operating under a contract or agreement with NRC for health-related services. This system may contain some of the information maintained in other systems of records, including NRC-11, “General Personnel Records (Official Personnel Folder and Related Records)—NRC,” NRC-17, “Occupational Injuries and Illness Records—NRC,” and NRC-44, “Employee Fitness Center Records—NRC.”

Categories of Individuals Covered by the System:

Current and former NRC employees, consultants, contractors, other Government agency personnel, and anyone on NRC premises who requires emergency or first-aid treatment.

Categories of Records in the System:

This system is comprised of records developed as a result of voluntary employee use of health services provided by the Health Center, and of emergency health services rendered by Health Center staff to individuals for injuries and illnesses suffered while on NRC premises. Specific information maintained on individuals may include, but is not limited to, their name, date of birth, and Social Security number; medical history and other biographical data; test reports and medical diagnoses based on employee health maintenance physical examinations or health screening programs (tests for single medical conditions or diseases); history of complaint, diagnosis, and treatment of injuries and illness rendered by the Health Center staff; immunization records; records of administration by Health Center staff of medications prescribed by personal physicians; medical consultation records; statistical records; daily log of patients; and medical documentation such as personal physician correspondence, test results submitted to the Health Center staff by the employee; and occupational health records. Forms used to obtain or provide information include, but are not limited to, the following:

(1) Employee Health Record.

(2) Immunization/Health Profile.

(3) Problem List.

(4) Progress Notes.

(5) Consent for Release of Medical Information.

(6) Against Medical Advice (AMA) Release.

(7) Patient Treatment Record.

(8) Injection Record.

(9) Allergy.

(10) Respirator Certification Form.

(11) Pre-travel Questionnaire.

(12) Flu Vaccine Form.

(13) Pneumonia Vaccine Form.

(14) TB Test Form.

(15) Office of Workers' Compensation Programs (OWCP) Occupational Injury Form.

(16) Medical History.

(17) Medical Examination.

(18) Prostate Symptoms Questionnaire.

(19) Proctosigmoidoscopy Form.

Authority for Maintenance of the System:

5 U.S.C. 7901 (1996); Executive Order 9397, November 22, 1943.

Routine Uses of Records Maintained in the System, Including Categories of Users and the Purposes of Such Uses:

In addition to the disclosures permitted under subsection (b) of the Privacy Act, the NRC may disclose information contained in this system of records without the consent of the subject individual if the disclosure is compatible with the purpose for which the record was collected under the following routine uses:

a. To refer information required by applicable law to be disclosed to a Federal, State, or local public health service agency concerning individuals who have contracted certain communicable diseases or conditions in an effort to prevent further outbreak of the disease or condition.

b. To disclose information to the appropriate Federal, State, or local agency responsible for investigation of an accident, disease, medical condition, or injury as required by pertinent legal authority.

c. To disclose information to the Office of Workers' Compensation Programs in connection with a claim for benefits filed by an employee.

d. To Health Center staff and medical personnel under a contract or agreement with NRC who need the information in order to schedule, conduct, evaluate, or follow up on physical examinations, tests, emergency treatments, or other medical and health care services.

e. To refer information to private physicians designated by the individual when requested in writing.

f. To the National Archives and Records Administration or to the General Services Administration for records management inspections conducted under 44 U.S.C. 2904 and 2906.

g. For any of the routine uses specified in the Prefatory Statement of General Routine Uses.

Policies and Practices for Storing, Retrieving, Accessing, Retaining, and Disposing of Records in the System:

Storage:

Records are stored in file folders, on microfiche, on computer media, and on file cards, logs, x-rays, and other medical reports and forms.

Retrievability:

Records are retrieved by the individual's name, date of birth, and Social Security number, or any combination of those identifiers.

Safeguards:

Records in the primary system are maintained in a building where access is controlled by a security guard force and entry to each floor is controlled by keycard. Records in the system are maintained in lockable file cabinets with access limited to agency or contractor personnel whose duties require access. The records are under visual control during duty hours. Access to automated data requires use of proper password and user identification codes by authorized personnel.

Retention and Disposal:

Records documenting an individual employee's medical history, physical condition, and visits to Government health facilities, for nonwork-related purposes, are maintained for six years from the date of the last entry as are records on consultants, contractors, other Government agency personnel, and anyone on NRC premises who requires emergency or first-aid treatment in accordance with GRS 1-19. Health Center control records such as logs or registers reflecting daily visits are destroyed three months after the last entry if the information is summarized on a statistical report in accordance with GRS 1-20a and two years after the last entry if the information is not summarized in accordance with GRS 1-20b. Occupational health records/long-term medical records are retained in accordance with GRS 1-21a. Employees are given copies of their records if requested upon separation from the agency.

System Manager(s) and Address:

Manager, Employee Assistance and Wellness Services, Office of Human Resources, U.S. Nuclear Regulatory Commission, Washington, DC 20555-0001

Notification Procedure:

Individuals seeking to determine whether this system of records contains information pertaining to themselves should write to the Freedom of Information Act and Privacy Act (FOIA/PA) Officer, Office of the Chief Information Officer, U.S. Nuclear Regulatory Commission, Washington, DC 20555-0001; comply with the procedures contained in NRC's Privacy Act regulations, 10 CFR part 9; and provide their full name, any former name(s), date of birth, and Social Security number.

Record Access Procedure:

Same as “Notification procedure.”

Contesting Record Procedure:

Same as “Notification procedure.”

Record Source Categories:

Information in this system of records is obtained from a number of sources including, but not limited to, the individual to whom it pertains; laboratory reports and test results; NRC Health Center physicians, nurses, and other medical technicians or personnel who have examined, tested, or treated the individual; the individual's coworkers or supervisors; other systems of records; the individual's personal physician(s); NRC Fitness Center staff; other Federal agencies; and other Federal employee health units.

Exemptions Claimed for the System:

None.

NRC-44

System Name:

Employee Fitness Center Records—NRC.

System Location:

Primary system—NRC Fitness Center, Two White Flint North, 11545 Rockville Pike, Rockville, Maryland.

Duplicate system—Duplicate systems may exist, in whole or in part, at the NRC's regional and other offices listed in Addendum I, Parts 1 and 2, and/or at other facilities operating under a contract or agreement with NRC for fitness-related services. This system may contain some of the information maintained in other systems of records, including NRC-32, “Office of the Chief Financial Officer Financial Transactions and Debt Collection Management Records-NRC.”

Categories of Individuals Covered by the System:

NRC employees who apply for membership in the Fitness Center as well as current and inactive Fitness Center members.

Categories of Records in the System:

The system includes employees' applications to participate in NRC's Fitness Center, information on individuals' degree of physical fitness and their fitness activities and goals, and various forms, memoranda, and correspondence related to Fitness Center membership and financial/payment matters. Specific information contained in the application for membership includes the employee applicant's name, gender, age, Social Security number, height, weight, and medical information, including a history of certain medical conditions; the name of the individual's personal physician and any prescription or over-the-counter drugs taken on a regular basis; and the name and address of a person to be notified in case of emergency. Forms used to obtain or provide information include, but are not limited to, the following:

(1) Application Package.

(2) Release of Medical Information/Physician's Statement.

(3) Fitness Assessment.

(4) Pre-exercise Health Screening.

(5) Account Logs.

(6) Terminated Memberships.

(7) New Memberships.

(8) Monthly Dues Collected.

(9) Accident Report.

(10) “Dear Participant” Letter.

(11) Refund Request.

(12) Regional Employee Sign-in Log.

(13) Member of the Month.

(14) User Suggestion Form.

Authority for Maintenance of the System:

5 U.S.C. 7901 (1996) ; Executive Order 9397, November 22, 1943.

Routine Uses of Records Maintained in the System, Including Categories of Users and the Purposes of Such Uses:

In addition to the disclosures permitted under subsection (b) of the Privacy Act, the NRC may disclose information contained in this system of records without the consent of the subject individual if the disclosure is compatible with the purpose for which the record was collected under the following routine uses:

a. To the individual listed as an emergency contact, in the event of an emergency.

b. To the National Archives and Records Administration or to the General Services Administration for records management inspections conducted under 44 U.S.C. 2904 or 2906.

c. For any of the routine uses specified in the Prefatory Statement of General Routine Uses.

Disclosures to Consumer Reporting Agencies:

Disclosures pursuant to 5 U.S.C. 552a(b)(12):

Disclosures of information to a consumer reporting agency are not considered a routine use of records. Disclosures may be made from this system to “consumer reporting agencies” as defined in the Fair Credit Reporting Act (15 U.S.C. 1681a(f) (1970)) or the Federal Claims Collection Act of 1966, as amended (31 U.S.C. 3701(a)(3) (1996)).

Policies and Practices for Storing, Retrieving, Accessing, Retaining, and Disposing of Records in the System:

Storage:

Records are maintained on computer media and in paper form in logs and files.

Retrievability:

Information is indexed and accessed by an individual's name and/or Social Security number.

Safeguards:

Records in the primary system are maintained in a building where access is controlled by a security guard force. Access to the Fitness Center is controlled by keycard and bar code verification. Records in paper form are stored alphabetically by individuals' names in lockable file cabinets maintained in the NRC Fitness Center where access to the records is limited to agency and Fitness Center personnel whose duties require access. The records are under visual control during duty hours. Automated records are protected by screen saver. Access to automated data requires use of proper password and user identification codes. Only authorized personnel have access to areas in which information is stored.

Retention and Disposal:

Fitness Center records are currently unscheduled and must be retained until the National Archives and Records Administration approves a records disposition schedule for this material.

System Manager(s) and Address:

Safety and Health Program Manager, Office of Human Resources, U.S. Nuclear Regulatory Commission, Washington, DC 20555-0001.

Notification Procedure:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR part 9.

Record Access Procedure:

Same as “Notification procedure.”

Contesting Record Procedure:

Same as “Notification procedure.”

Record Source Categories:

Information in this system of records is principally obtained from the individuals upon whom the records are maintained. Other sources of information include, but are not limited to, the NRC Fitness Center Director and other staff, physicians retained by the NRC, and the individuals' personal physicians.

Exemptions Claimed for the System:

None.

Addendum I—List of U.S. Nuclear Regulatory Commission Locations.

Part 1—NRC Headquarters Offices.

1. One White Flint North, 11555 Rockville Pike, Rockville, Maryland 20852-2738.

2. Two White Flint North, 11545 Rockville Pike, Rockville, Maryland 20852-2738.

3. Warehouse, 5000 Boiling Brook Parkway, Rockville, Maryland 20852-2738.

Part 2—NRC Regional Offices.

1. NRC Region I, 475 Allendale Road, King of Prussia, Pennsylvania 19406-1415.

2. NRC Region II, Atlanta Federal Center, 23 T85, 61 Forsyth Street, SW., Atlanta, Georgia 30303-3415.

3. NRC Region III, 801 Warrenville Road, Lisle, Illinois 60532-4351.

4. NRC Region IV, 611 Ryan Plaza Drive, Suite 400, Arlington, Texas 76011-8064.

5. High-Level Waste Management Office, 1551 Hillshire Drive, Las Vegas, Nevada 89134.

6. NRC Technical Training Center, 5746 Marlin Road, Suite 200, Chattanooga, Tennessee 37411-5677.

Dated in Rockville, Maryland, this 4th day of October, 2002.
For the Nuclear Regulatory Commission.
Stuart Reiter,
Chief Information Officer.

[FR Doc. 02-25994 Filed 10-11-02; 8:45 am]

BILLING CODE 7590-01-P